DEPARTMENT OF COMMERCE

National Oceanic and Atmospheric Administration

50 CFR Part 660

[Docket No. 221206-0261]

RIN 0648-BL48

Magnuson-Stevens Act Provisions; Fisheries Off West Coast States; Pacific Coast Groundfish Fishery; Pacific Coast Groundfish Fishery Management Plan; Amendment 30; 2023-24 Biennial Specifications and Management Measures

AGENCY: National Marine Fisheries Service (NMFS), National Oceanic and Atmospheric Administration (NOAA), Commerce.

ACTION: Final rule.

SUMMARY: This final rule establishes the 2023-24 harvest specifications for groundfish caught in the U.S. exclusive economic zone seaward of Washington, Oregon, and California, consistent with the Magnuson-Stevens Fishery Conservation and Management Act and the Pacific Coast Groundfish Fishery Management Plan. This final rule also revises management measures intended to keep the total annual catch of each groundfish stock or stock complex within the annual catch limits. These measures are intended to help prevent overfishing, rebuild overfished stocks, achieve optimum yield, and ensure management measures are based on the best scientific information available. This final rule also makes minor corrections to the regulations. This action also implements portions of Amendment 30 to the Pacific Coast Groundfish Fishery Management Plan, which specifies a shortbelly rockfish catch threshold to initiate Council review; extends the length of the limited entry fixed gear sablefish primary season; changes the use of Rockfish Conservation Area boundaries; expands the use of Block Area Closures to control catch of groundfish; and corrects the definition of Block Area Closures.

DATES: This final rule is effective January 1, 2023.

ADDRESSES: The Environmental Assessment (EA) and Finding of No Significant Impact (FONSI) which addresses the National Environmental Policy Act, Presidential Executive Order 12866, and the Regulatory Flexibility Act, is accessible via the internet at the NMFS West Coast Region website at https://www.fisheries.noaa.gov/region/west-coast. Background information and documents including an analysis for this action (Analysis), which addresses the statutory requirements of the Magnuson Stevens Fishery Conservation and Management Act (Magnuson-Stevens Act) are available from the Pacific Fishery Management Council's website at http://www.pcouncil.org. The final 2022 Stock Assessment and Fishery Evaluation (SAFE) report for Pacific Coast groundfish, as well as the SAFE reports for previous years, are available from the Pacific Fishery Management Council's website at http://www.pcouncil.org.

FOR FURTHER INFORMATION CONTACT: Gretchen Hanshew, Fishery Management Specialist, at 206-526-6147 or gretchen.hanshew@noaa.gov.

SUPPLEMENTARY INFORMATION:

I. Harvest Specifications

This final rule sets 2023-24 harvest specifications and management measures for 127 of the 128 groundfish stocks or management units which currently have ACLs or ACL contributions to stock complexes managed under the PCGFMP, except for Pacific whiting. Pacific whiting harvest specifications are established annually through a separate bilateral process with Canada.

The OFLs, ABCs, and ACLs are based on the best available biological and socioeconomic data, including projected biomass trends, information on assumed distribution of stock biomass, and revised technical methods used to calculate stock biomass. See Tables 1a and 2a to Part 660, Subpart C in the regulatory text supporting this rule for the 2023-24 OFLs, ABCs, and ACLs for each stock or stock complex.

A detailed description of each stock and stock complex for which the Council establishes harvest specifications set through this rule can be found in the 2022 SAFE document posted on the Council's website at https://www.pcouncil.org/stock-assessments-star-reports-stat-reports-rebuilding-analyses-terms-of-reference/safe-documents-4/. A summary of how the 2023-24 harvest specifications were developed, including a description of off-the-top deductions for tribal, research, incidental, and experimental fisheries, was provided in the proposed rule (87 FR 62676, October 14, 2022) and is not repeated here. Additional information on the development of these harvest specifications is also provided in the Analysis.

For most stocks, the Council recommended harvest specifications based on the default harvest control rule used in the prior biennium. The Council recommended deviating from the default harvest control rule for two stocks in 2023-2024. Table 1 presents a summary of the changes to the harvest control rules for these stocks for the 2023-24 biennium. Each of these changes was discussed in the proposed rule and that discussion is not repeated here.

Table 1—Changes to Harvest Control Rules for 2023-24
Stock complex component | Alternative | Harvest control rule | ACL contribution to stock complex ᵃ ᵇ
Black Rockfish off of Oregon | Default | ACL contribution = ABC (P* = 0.45) | 477 mt (2023), 471 mt (2024).
| New Harvest Control Rule | ACL contribution = 2020 ABC | 512 mt (2023), 512 mt (2024).
Quillback Rockfish off of California | Default | ACL contribution < ABC with the 40-10 adjustment ᶜ off California only (P* = 0.45) | 2023 statewide ACL contribution = 0.11 mt; 2024 statewide ACL contribution 0.42 mt.
| New Harvest Control Rule | ACL contribution < ABC (SPR 0.55; P* 0.45) | 2023 statewide ACL contribution = 1.76 mt; 2024 statewide ACL contribution = 1.93 mt.
ᵃ Default ACL is for 2023 and 2024 under the default harvest control rule, Proposed change ACL is for 2023 and 2024 under the alternative harvest specifications.
ᵇ The ACL contribution for quillback rockfish off of California are apportioned to create the ACL contributions to the nearshore rockfish complexes north and south of 40°10′ N lat. The apportionment was determined by the proportion of catch between 2005 and 2020 north and south of 40°10′ N lat. in California where 49.6 percent of the statewide ACL is apportioned to the area between 42° and 40°10′ N lat. for the California contribution to the northern complex, and 50.4 percent to the area south of 40°10′ N lat. for the contribution to the southern complex.
ᶜ The 40-10 adjustment is applied to only some component species when calculating the complex ACL, where a precautionary reduction is warranted, per the PCGFMP at section 4.6.1. The 40-10 adjustment reduces the harvest rate to help the stock return to the maximum sustainable yield level.

II. Management Measures

This final rule will revise management measures, which are used to further allocate the ACLs to the various components of the fishery (i.e., biennial fishery harvest guidelines and set-asides) and to control fishing. Management measures for the commercial fishery modify fishing behavior during the fishing year to ensure catch does not exceed the ACL, and include trip and cumulative landing limits, time/area closures, size limits, and gear restrictions. Management measures for the recreational fisheries include bag limits, size limits, gear restrictions, fish dressing requirements, and time/area closures. Each of these changes was discussed in the proposed rule and that discussion is not repeated here.

As described in the proposed rule, before making allocations to the primary commercial and recreational components of groundfish fisheries, the Council recommends “off-the-top deductions,” or deductions from the ACLs to account for anticipated mortality for certain types of activities: harvest in Pacific Coast treaty Indian tribal fisheries; harvest in scientific research activities; harvest in non-groundfish fisheries (incidental catch); and harvest that occurs under EFPs. These off-the-top deductions are proposed for individual stocks or stock complexes and can be found in the footnotes to Tables 1a and 2a to part 660, subpart C in the regulatory text of this final rule. The details of the EFPs were discussed in Section III.H of the proposed rule. The Tribal harvest set-asides and allocations proposed for the 2023-24 biennium for groundfish species other than Pacific whiting, were shown in Table 5 of the proposed rule.

The Council routinely recommends 2-year trawl and non-trawl allocations during the biennial specifications process for stocks without formal allocations (as defined in Section 6.3.2 of the PCGFMP) or stocks where the long-term allocation is suspended. Allocations are detailed in the harvest specification tables appended to 50 CFR part 660, subpart C in the regulatory text of this final rule and described in Section III.C. of the proposed rule. As proposed, allocations for big skate, bocaccio South of 40°10′ N lat., canary rockfish, cowcod, lingcod South of 40°10′ N lat., longnose skate, Shelf Rockfish Complex, Slope Rockfish Complex, petrale sole, and widow rockfish are revised with this final rule.

Rockfish Conservation Areas (RCAs) are large area closures intended to reduce the catch of a stock or stock complex by restricting fishing activity at specific depths. The boundaries for RCAs are defined by straight lines connecting a series of latitude and longitude coordinates that approximate depth contours. This final rule makes minor line modifications seaward of California around Eel Canyon (near Eureka), Mendocino Canyon, Mattole Canyon, the Farallon Islands (near San Francisco), the Channel Islands (near Santa Barbara and east of Anacapa Island), Redondo Canyon, Santa Catalina Island, Lasuen Knoll, and Santa Clemente Island, as well as in near Albion, Monterey Bay, Point Sur, Morro Bay, Port Hueneme, Santa Monica Bay, Point Vincente, Huntington Beach, and San Diego. These modifications would better align existing RCA coordinates with chart-based depth contours, reduce boundary line crossovers, and address enforcement concerns. See Section III.D of the proposed rule or Section 2.1 of the Analysis for more details on these changes.

A. Routine Measures for Commercial Limited Entry Trawl, Non-Trawl, and Recreational Fisheries

The limited entry trawl fishery is made up of the shorebased IFQ program, whiting and non-whiting, and the at-sea whiting sectors. For some stocks and stock complexes with a trawl allocation, an amount is first set-aside for the at-sea whiting sector with the remainder of the trawl allocation going to the shorebased IFQ sector. Set-asides are not managed by NMFS or the Council except in the case of a risk to the ACL. This final rule adopts at-sea set asides as shown in Section III.E., Table 16 of the proposed rule. For vessels fishing in the Shorebased IFQ Program, with either groundfish trawl gear or non-trawl gears, the following incidentally-caught stocks are managed with trip limits: Minor Nearshore Rockfish north and south, Washington black rockfish, Oregon black/blue/deacon rockfish, cabezon (46°16′ to 40°10′ N lat. and south of 40°10′ N lat.), spiny dogfish, longspine thornyhead south of 34° N lat., big skate, California scorpionfish, longnose skate, Pacific whiting, and the Other Fish complex. As described in the proposed rule in Section III.E., this rule maintains the same IFQ fishery trip limits for these stocks for the start of the 2023-24 biennium as those in place in 2022. Trip limits for the IFQ fishery can be found in Table 1 North and Table 1 South to part 660, subpart D of this final rule. Changes to trip limits would be considered a routine measure under § 660.60(c), and may be implemented or adjusted, if determined necessary, through inseason action.

Management measures for the LEFG and OA non-trawl fisheries tend to be similar because the majority of participants in these fisheries use hook-and-line gear. Management measures, including area restrictions (e.g., non-trawl RCA) and trip limits in these non-trawl fisheries, are generally designed to allow harvest of target stocks while keeping catch of overfished stocks low. LEFG trip limits are specified in Table 2 (North) and Table 2 (South) to subpart E. OA trip limits are specified in Table 3 (North) and Table 3 (South) to subpart F in the regulatory text of this final rule. As described in Section III.F. of the proposed rule, sablefish trip limits are being modified and the sablefish annual tier limits are being updated. Sablefish annual tier limits for 2023 and 2024 can be found at § 660.231(b)(3)(i) in the regulatory text of this final rule.

The Council primarily recommends depth restrictions and bag limit changes to constrain catch within the recreational harvest guidelines for each stock. Washington, Oregon, and California each proposed, and the Council recommended, different combinations of seasons, bag limits, area closures, and size limits for stocks targeted in recreational fisheries, as described in Section III.G of the proposed rule. These measures are designed to limit catch of overfished stocks found in the waters adjacent to each state while allowing target fishing opportunities in their particular recreational fisheries. Changes to management measures for recreational fisheries off the coasts of Washington, Oregon and California can be found in § 660.360 of the regulatory text of this final rule.

B. New Management Measures

Shortbelly rockfish is one of the most abundant rockfish species in the California Current Ecosystem and is a key forage species for many fish, birds, and marine mammals. Amendment 30 adds language to the PCGFMP stating that if shortbelly rockfish mortalities exceed, or are projected to exceed, 2,000 mt in a calendar year, the Council would review relevant fishery information and consider if management changes were warranted, including, but not limited to reconsideration of its current classification as an ecosystem component (EC) species. To estimate mortality and provide for catch accounting, this final rule adds a sorting requirement for shortbelly rockfish in the LEFG and OA fisheries. For more information on this measure, see the NOA for Amendment 30, the Analysis, and Section III.I of the proposed rule.

NMFS notes that routine management measures as laid out in 50 CFR 660.60(c) are not currently available for shortbelly rockfish management because shortbelly rockfish is an EC species. Shortbelly rockfish would need to be redesignated as “in the fishery” prior to routine management measures being available for inseason use. However, the Council could recommend, consistent with the points of concern framework (FMP Section 6.2.2), management measures to minimize bycatch or bycatch mortality of EC species as laid out in 50 CFR 600.305(c)(5). Depending on the issue triggering the need for management measures, this pathway might require revisiting the EC designation.

This final rule also allows non-trawl vessels to use select hook-and-line gear configurations within the NT-RCA to provide additional opportunity to commercial non-trawl fisheries to target healthy stocks, relieve pressure on overfished or constraining nearshore stocks, and limit impacts to sensitive habitats, as described in Section III.J of the proposed rule.

This final rule allows vessels in the directed open access fishery targeting groundfish to operate inside the NT-RCA from 46°16′ N lat. to the U.S./Mexico border with non-bottom contact hook-and-line gear only, subject to the specifications described in Section III.J of the proposed rule, including but not limited to the vessel declaring into the directed open access fishery, and the vessel would not be permitted to declare into any other fishery if fishing inside the NT-RCA.

This final rule permanently extends the LEFG sablefish primary tier fishery (hereinafter referred to as primary fishery) season end date from October 31 to December 31. The primary fishery would close on December 31, or close for an individual vessel owner when the tier limit for the sablefish endorsed permit(s) registered to the vessel has been reached, whichever is earlier. This action also extends the incidental Pacific halibut retention allowance provision for the primary fishery north of Point Chehalis, Washington from October 31 to the date/time specified by the International Pacific Halibut Commission (IPHC) annually for the closure of Pacific halibut commercial fisheries coastwide, or until the quota is taken, whichever comes first. For more information on this measure, see the Analysis and in Section III.K of the proposed rule.

Amendment 30 makes a minor change to the PCGFMP to resolve a mismatch between the FMP and current regulatory text. The PCGFMP will be revised to match the Council's intent to manage incidental salmon bycatch by vessels using groundfish midwater trawl gear in the EEZ off of Washington, Oregon, and California with Block Area Closures (BACs), as currently described in regulations. For more information on this measure, see the NOA for Amendment 30, the Analysis, and Section III.L of the proposed rule.

This final rule sets Annual Catch Targets (ACTs) for copper rockfish and quillback rockfish, for the reasons described in Section III.M of the proposed rule. For copper rockfish, the ACT would be set equal to its ACL contribution for the portion of the stock found off of California and would be set at 91.54 mt in 2023, and 94.72 mt in 2024. For quillback rockfish, an ACT would be set for the portion of the stock found off of California and would be set at 1.86 mt in 2023, and 1.97 mt in 2024.

This final rule allows for novel utilization of the previously established Rockfish Conservation Area (RCA) boundary lines for the recreational fishery seaward of California (§ 660.360(c)(3)) by allowing fishing seaward of a specified RCA boundary line and prohibiting fishing shoreward of that line. This measure is taken in addition to the regulatory management measures to reduce mortality of copper and quillback rockfish in 2022 (and continued for 2023-2024) and voluntary measures taken by industry, to reduce mortality of copper and quillback rockfishes. If mortality is lower than expected through the regular inseason monitoring and reporting, the Council and NMFS would consider relieving restrictions during the biennium in order to reduce socioeconomic impacts, while keeping mortality within the recommended ACTs for these species. For more information on this measure, see the NOA for Amendment 30, the Analysis, and Section III.N of the proposed rule.

This final rule makes Block Area Closures (BACs) available as a routine management measure to control catch of groundfish by midwater trawl and bottom trawl non-tribal vessels. BACs could be implemented in the EEZ seaward of Washington, Oregon, and California. For more information on this measure, see the Analysis and Section III.O of the proposed rule.

C. Corrections

This rule makes minor corrections to the regulations at 50 CFR 600. These regulations are associated with Amendment 29 (85 FR 79880, December 11, 2020), Amendment 21-4 to the PCGFMP (84 FR 68799, December 17, 2019), and the 2019-2020 biennial harvest specifications (83 FR 63970, December 12, 2018). These minor corrections are necessary to reduce confusion and inconsistencies in the regulatory text and ensure the regulations accurately implement the Council's intent.

This rule updates the definition of “Ecosystem component species” at § 660.11 to add shortbelly rockfish in the list of species designated as ecosystem component and removes the shortbelly rockfish trip limit from Table 2 (North) and Table 2 (South) to Part 660, Subpart E, as well as Table 3 (North) and Table 3 (South) to Part 660, Subpart F.

This rule amends § 660.55(c)(1) Table 1 by removing the allocations for canary rockfish, as well as petrale sole, widow rockfish, lingcod south of 40°10′ N lat., and the slope rockfish complex south of 40°10′ N lat., consistent with Amendment 29.

This rule amends § 660.140 to remove darkblotched rockfish, Pacific ocean perch, and widow rockfish from paragraph (c)(3)(iii) and add them to paragraph (c)(3)(iv), consistent with Amendment 21-4.

This rule removes cross references to at-sea set-asides at Table 1d to Subpart C of part 660, in § 660.150 and § 660.160 and clarifies that the at-sea set-asides are described in the biennial specifications, consistent with Amendment 29.

This final rule amends the regulations regarding depth restrictions for recreational vessels operating within the Western Cowcod Conservation Area at § 660.360(c)(3)(i)(B), to note that a coordinate list describing the 40 fm (73 m) depth contour can be found in § 660.71.

For more information on each of these changes, see Section III.P. of the proposed rule.

IV. Comments and Responses

The notice of availability was published on September 6, 2022 (87 FR 54445) and received 5 public comments. Of those public comments, one commenter agreed with the proposed measures. A comment letter from California Department of Fish and Wildlife supported the measures to extend the length of the limited entry fixed gear sablefish primary season, supported changing the use of RCA boundaries, and supported expanding the use of BACs and correcting its definition. The other 4 comments pertained to measures in the proposed rule for implementing regulations. The proposed rule was published on October 14, 2022 (87 FR 62676) and received 6 public comments. All comments pertaining to the measures in the proposed rule are addressed below.

Comment: Five commenters disagreed with new, more restrictive, management measures for certain groundfish. Reasons for disagreement included the perception that the fishery is thriving, and that the surveys and stock assessments were inaccurate.

Response: The 2023-2024 groundfish harvest specifications and management measures are informed by the best scientific information available, including surveys and new stock assessments. As discussed in the proposed rule (87 FR 62676), new stock assessments for certain rockfish species indicate these species are depleted, and more restrictive management measures are necessary to keep catch within lower catch limits.

Comment: One commenter disagreed with the trip limits for sablefish north of 36° N latitude between the limited entry and open access sectors and thinks the open access limits should be proportionally lower than the limited entry limits to increase the value of limited entry permits and recognize the difference in investment between the two sectors.

Response: The Council recommended, and NMFS is implementing with this rule, the sablefish trip limits north of 36° N latitude. Typically, the trip limits in the open access sector are lower than the limited entry sector; however, the proportionality fluctuates across years and across species. This fluctuation is caused mostly by differences in fishing effort and market changes. Sector specific trip limits are designed to increase the likelihood of each sector attaining its annual sector-specific sablefish allocation. Trip limits for each sector are a policy recommendation from the Council based on fishery information and the fixed proportion of harvest privilege for each sector.

Comment: Two commenters pointed out discrepancies between the proposed rule preamble and regulatory text and recommended corrections to the proposed rule to bring consistency with Council recommendations.

Response: NMFS appreciates the attention to these details, agrees that those corrections are warranted for consistency with the Council recommendations, and has therefore made corrections and changes in this final rule, as described in the corrections to the proposed rule section below.

Comment: One fisherman commented that the open access north trip limits for the shelf rockfish complex are too low and are likely to result in regulatory discards as fishermen catch increased trip limits for co-occurring species. They request that NMFS consider inseason changes to increase those limits to reduce potential regulatory discards.

Response: NMFS acknowledges the difference in trip limits for these co-occurring species and notes that differences in the scale of the trip limits does not necessarily mean that regulatory discards will occur, or that higher trip limits can be accommodated while keeping total catch within applicable harvest specifications. In the future the Council may, based on updated fishery information, recommend an inseason increase to the subject shelf rockfish limits, at which point NMFS will consider such regulation changes.

Comment: The California Department of Fish and Wildlife (CDFW) commented to express uncertainty whether current and proposed new sorting requirements for shortbelly rockfish are sufficient to allow the agency and the Council to monitor whether shortbelly rockfish catch exceeds the review trigger established as part of Amendment 30 or whether additional measures would be needed.

Response: This final rule implements new scientific sorting requirements for shortbelly rockfish consistent with § 660.12(a)(8), removes management measures that are no longer necessary, and otherwise allows the continued tracking of shortbelly rockfish catch to allow the agency and the Council to determine if and when the review trigger is met. Scientific sorting requirements allow for sorting requirements that are not otherwise necessary due to management measures such as trip limits. The trawl sector is already subject to a sorting requirement for shortbelly rockfish (see 50 CFR 660.130(d)(1)(i)). This final rule implements a scientific sorting requirement for the limited entry fixed gear (§ 660.230(c)(2)(i)) and open access sectors (§ 660.330(c)(2)(1)). Collectively, these new scientific sorting requirements, in conjunction with the sorting requirements already in place, provide the agency and the Council the ability to track shortbelly rockfish catch inseason and evaluate if and when the review trigger is met.

Comment: CDFW questioned the removal of management measures for shortbelly rockfish. CDFW also expressed concern that under the new shortbelly rockfish review trigger provisions, there may not be inseason management responses available to the agency or Council.

Response: As noted in the proposed rule (87 FR 62676; October 14, 2022), we proposed removing trip limits for shortbelly rockfish because under Amendment 29 to the FMP, shortbelly rockfish was designated as an ecosystem component (EC) species. NMFS notes that routine management measures as laid out in 50 CFR 660.60(c) are not currently available for EC species. EC species are designated as such because they are not in need of conservation and management (see Amendment 29 final rule; 85 FR 79880, December 11, 2020). As we noted in Council deliberations on this action and again in the proposed rule, if the review trigger were met and if the Council was considering taking action in response, shortbelly rockfish would need to be redesignated as “in the fishery” prior to routine management measures being available for inseason use. However, the Council could recommend, consistent with the points of concern framework (FMP Section 6.2.2), management measures to minimize bycatch or bycatch mortality of EC species as laid out in 50 CFR 600.305(c)(5). Depending on the issue triggering the need for management measures, this pathway might require revisiting the EC designation.

Comment: CDFW suggested an addition to the recreational management measures off California to implement new provisions for “other groundfish” consistent with California state regulations.

Response: This suggested change is outside the scope of this action and would require additional consideration through the Pacific Fishery Management Council process.

Comment: CDFW suggests there is an error in the example of what is allowed under the recreational management measures at § 660.330(c)(3)(i)(A). For example, if a vessel fishes in the recreational salmon fishery within the RCA, the vessel cannot be in possession of rockfish while in the RCA. The vessel may, however, on the same trip fish for and retain rockfish shoreward of the RCA on the return trip to port. If the season is closed for a species or species group, fishing for that species or species group is prohibited both within the recreational RCA and shoreward of the recreational RCA, unless otherwise authorized in this section.

Response: The recreational management measures are found at § 660.360(c)(3)(i)(A) rather than in § 660.330. The example in this paragraph is already in place and was not being proposed for modification through this rulemaking. The example relates to what is allowed when the recreational RCA is used in its traditional structure, i.e., fishing is prohibited seaward of the line. Further down in the same paragraph, there is new explanation of the additional possible usage of the RCA line, e.g., prohibiting fishing shoreward of the line. Both uses will be available in the future, and therefore the example is still relevant for one of the uses of the RCA lines.

Comment: The Center for Biological Diversity (CBD) comment letter expressed concern about the risk of entanglements for humpback whales and Southern Resident killer whales in fishing gear due to the extension of the sablefish primary fishery from the current October 31 closure to December 31.

Response: As noted in the proposed rule and Analysis, the sablefish primary fishery is managed with quotas (tiers) that are restricted to a finite number of permits, and thus effort is also finite, which constrains any potential for spill-over from other fisheries. The quotas in this fishery are highly attained under the status quo and, therefore, the season extension is expected to spread effort out across the year, but not increase effort overall. Additionally, based on non-transferable gear endorsements, the fishery is comprised of more vessels using bottom longline gear than vessels using pot gear. Numerous surveys, sightings, models, and tracking efforts on humpback whale migrations and behavioral patterns have found that the presence of humpback whales along the West Coast is likely to be higher during the late spring through the fall, particularly in the northern areas of the coast where the Sablefish primary fishery is primarily prosecuted. This reflects a general migration pattern of humpback whales heading south to breeding areas by December each year, and subsequently starting to return to feeding areas by April (see Section 4.2 of the Analysis). Because the overall number of permits is restricted in this fishery, we would expect this season extension would allow a temporal distribution of effort so that some fishing effort that normally occurs earlier in the shorter season would shift to later in the extended season. Because the densities of humpback whales are generally decreasing later in the season, this action will not cause an effect to listed humpback whales or their critical habitat that was not considered in the 2020 Biological Opinion.

There have been no documented entanglements of any killer whales in the Pacific coast groundfish fishery (see List of Fisheries, 87 FR 55376, September 9, 2022). Killer whale entanglement with fishing gear is rare; there has never been a documented entanglement of a southern resident killer whale in gear associated with the primary sablefish fishery, and the known total fishery mortality and serious injury for SRKWs is zero (Carretta et al. 2022).

The probability of such an event is extremely small and this action would not increase that probability. As described in the Analysis, this action is not expected to change the location or level of fishing effort of the primary sablefish fishery, which is composed of both longline gear and, to a lesser extent, pot gear. Based on timing and distribution of the fishery, including the sablefish season extending to December 31 annually, and seasonal movement patterns of southern resident killer whales, direct overlap of Southern Resident killer whales and fishing vessels or gear in open coastal waters is unlikely and fishing vessel activities are not expected to affect Southern Resident killer whale passage. Therefore, we expect extension of the season to have little to no effect on southern resident killer whales or their designated critical habitat.

Comment: CBD also expressed concern that the extension of the sablefish primary fishery could affect Southern Resident killer whales by catching salmon, a prey species, in their critical habitat.

Response: The sablefish primary fishery is only prosecuted with bottom longlines and pot gear. These gear types have very low bycatch of salmon, particularly Chinook salmon. In the most recent salmon bycatch report for the groundfish fishery developed by the Northwest Fisheries Science Center covering 2002-2021, no salmon bycatch were documented in the pot gear sectors, and a maximum yearly count of 25 coho and 4 unspecified salmon were estimated in the limited entry sablefish hook and line fishery. As described in the Analysis, this season extension action is unlikely to change the location or level of fishing effort in the sablefish primary fishery. Therefore, we do not expect any changes in salmon bycatch in the fixed gear sectors from this action.

V. Corrections to the Proposed Rule

NMFS received comment letters from ODFW and CDFW noting inconsistencies in information presented in the preamble to the proposed rule and the regulatory text in the proposed rule. NMFS offers the following corrections in this final rule. These clarifications and corrections to the information in the proposed rule do not change the substance or intent of this action.

At 87 FR 62680 of the preamble of the proposed rule in the section Quillback Rockfish Off California two of the ACL contributions for the portion of the quillback rockfish off of California to the Nearshore Rockfish complex were transposed and so mislabeled. The ACL contribution for the portion of quillback rockfish off of California to the Nearshore Rockfish complex north of 40°10′ N lat. is 0.96 mt in 2024. The ACL contribution for the portion of quillback rockfish off of California to the Nearshore Rockfish complex south of 40°10′ N lat. is 0.89 mt in 2023.

At 87 FR 62684 of the preamble of the proposed rule in section III.C. Biennial Fishery Allocations all of the metric tonnage values for canary rockfish in 2023 and 2024 were slightly miscalculated in the preamble text and Table 8 but correct in the regulatory text. The following are the correct canary rockfish allocation numbers. In 2023, the trawl sector would receive 878.5 mt of canary rockfish, of which 36 mt would be deducted to account for bycatch in the at-sea sectors, and the remaining 842.5 mt would be distributed to the shorebased individual fishing quota (IFQ) sector. In 2023, the non-trawl sector would receive 336.6 mt which is distributed to the commercial non-trawl (121.2 mt), WA recreational (41.4 mt), OR recreational (62.3 mt), and CA recreational (111.7 mt) fisheries. In 2024, the trawl sector would receive 866.2 mt of canary rockfish, of which 36 mt would be deducted to account for bycatch in the at-sea sectors, and the remaining 830.2 mt would be distributed to the shorebased IFQ sector. The non-trawl sector would receive 331.9 mt, which is distributed to the commercial non-trawl sector (119.4 mt), WA recreational (40.8 mt), OR recreational (61.4 mt), and CA recreational (110.2 mt) fisheries.

Table 8—2023 and 2024 Allocations of Canary Rockfish, Corrected
| 2023 Allocation (mt) | 2024 Allocation (mt)
Shorebased IFQ Program | 842.5 | 830.2
At-sea Sectors | 36 | 36
Nearshore/Non-nearshore | 121.2 | 119.4
Washington recreational | 41.4 | 40.8
Oregon recreational | 62.3 | 61.4
California recreational | 111.7 | 110.2

At 87 FR 62684 of the proposed rule, the description in the preamble text of the cowcod non-trawl allocation in 2023 should have been 44.1 mt and not 44.0 mt. The 44.1 mt non-trawl allocation in 2023 was correctly listed in Table 9 of the preamble and in the applicable regulatory text.

At 87 FR 62685 of the preamble of the proposed rule, all of the metric tonnage values for lingcod south of 40°10′ N lat. in 2023 and 2024 were slightly miscalculated in the preamble text and Table 8 but correct in the regulatory text and used the correct percentage distribution. The following are the correct lingcod south of 40°10′ N lat. allocation numbers. In 2023, the distribution results in 284.2 mt to the trawl sector and 426.3 mt to the non-trawl sectors. In 2024, the distribution results in 282.6 mt to the trawl sectors and 423.9 mt to the non-trawl sectors. No further allocations or distributions are made.

Table 10—2023 and 2024 Trawl/Non-Trawl Allocations of Lingcod South of 40°10′ N lat., Corrected
| Percentage | 2023 Allocation (mt) | 2024 Allocation (mt)
Trawl | 40 | 284.2 | 282.6
Non-trawl | 60 | 426.3 | 423.9

In Tables 1a and 2a to Part 660 Subpart C of the regulatory text in the proposed rule, the OFLs, ABCs, ACLs and Fishery HGs for longspine thornyhead, sablefish, and shortspine thornyhead were mistakenly mislabeled when published due to a formatting error. The table published in the proposed rule showed that OFLs were only for the northern portion of the species and in Table 1a to part 660 subpart C it showed southern ACLs and HGs in the OFL and ABC columns for all three species. In this final rule the tables properly label the coastwide OFLs and ABCs and area-specific ACLs and Fishery HGs for each of those three species. Also in Table 2a to Part 660 Subpart C, footnote “x” mistakenly referenced that annual 2024 Pacific whiting harvest specifications would be announced in 2023. In this final rule footnote “x” is revised to reference the setting of 2024 annual Pacific whiting harvest specifications being announced in 2024.

In Table 1b. to Part 660 Subpart C of the regulatory text in the proposed rule, the trawl allocation percentage for bocaccio and canary rockfish was mistakenly carried to multiple decimal places. This resulted in rounding error in the published metric tonnage of the trawl and non-trawl allocations for canary rockfish. Table1b. to Part 660 Subpart C is revised to show 2023 bocaccio allocations as 39 percent to trawl and 61 percent to non-trawl and the canary rockfish trawl allocation percentage as 72.3 percent and allocation as 878.5 mt and to show the canary rockfish non-trawl allocation percentage as 27.7 percent and allocation as 336.6 mt. These percentages are consistent with those described in the preamble of the proposed rule in section III.C. Biennial Fishery Allocations.

At 87 FR 62690 of the proposed rule, in some places, Table 19 only provides the depth in fathoms, rather than also in meters. At 87 FR 62695, cowcod is included in a list of nearshore rockfish species of concern, however, cowcod is a shelf rockfish, nor a nearshore rockfish. At 87 FR 62719 in the proposed regulatory text for § 660.360(c)(3)(i)(A)(3), there is a typographical error of the word `is'.

VI. Changes From the Proposed Rule

As a result of comments received on the proposed rule, in this final rule NMFS is making the following changes from the proposed rule. In addition, a clarifying cross reference is being added from what was published in the proposed rule, revising the definition of the directed open access fishery as described below.

The proposed rule did not revise any of the southernmost boundary lines that approximate the 40 fm depth contour, found at § 660.71(o), or the 250 fm depth contour around San Diego Rise, found at § 660.74(q), aside from redesignating the order of some coordinates. In CDFW's thorough review of all of the coordinates in regulations, including the changes in the proposed rule, they discovered that one point on each of these boundary lines lay outside of the U.S. EEZ. NMFS does not have jurisdiction to establish or enforce fishing restrictions outside the EEZ. Therefore, CDFW recommended that one waypoint of each of these lines be revised in the following way: along the line that was formed by the existing points in regulation, where that line intersects the EEZ, add a revised waypoint and remove the old waypoint outside the EEZ. Therefore, NMFS is including a revision to newly redesignated paragraph § 660.71(o)(219) and a revision to § 660.74(q)(4) in this final rule as a technical correction to remove waypoints outside the EEZ while maintaining the size and shape of any closed areas bounded by the subject lines.

The proposed rule included regulatory revisions for a new management measure to allow vessels fishing as part of the directed open access fishery to fish within the NT-RCA with specified hook and line gear types and following certain provisions (e.g., declarations, etc.). For more information on this new measure, see the proposed rule at Section III.J. Separately, NMFS published a final rule implementing a logbook requirement for the same group of vessels (87 FR 59724; October 3, 2022), and that final rule added a definition of the directed open access fishery to § 660.11. That added definition is pertinent to the fishery participants that are allowed to fish under the new management measure in this final rule that allows them to fish with non-bottom contact gear in the NT-RCA. This final rule adds text in paragraph (1) in the definition of “open access fishery” to cross reference the new measure at § 660.330(b)(3) that was published in the proposed rule and this final rule. This addition of the cross-reference is both administrative in nature and a logical extension of the proposed rule provisions, and does not change the function of the regulations described in the proposed rule or the logbook final rule.

V. Classification

Pursuant to section 304(b)(1)(A) and section 305(d) of the Magnuson-Stevens Act, the NMFS Assistant Administrator has determined that this final rule is consistent with the PCGFMP, other provisions of the Magnuson-Stevens Act, and other applicable law.

Regulations governing the U.S. fisheries for Pacific halibut are developed by the IPHC, the Pacific Fishery Management Council, the North Pacific Fishery Management Council, and the Secretary of Commerce. Section 5 of the Northern Pacific Halibut Act of 1982 (Halibut Act, 16 U.S.C. 773c) allows the Regional Council, having authority for a particular geographical area, to develop regulations governing the allocation and catch of Pacific halibut in U.S. Convention waters as long as those regulations do not conflict with IPHC regulations. This final rule is consistent with the Council's authority to allocate Pacific halibut catches among fishery participants in the waters in and off the United States.

NMFS finds good cause to waive the 30-day delay in effectiveness pursuant to 5 U.S.C. 553(d)(3), so that this final rule may become effective on January 1, 2023. This action establishes the final specifications (i.e., annual catch limits) for the Pacific Coast groundfish fisheries for the 2023 fishing year, which begins on January 1, 2023. If this final rule is not effective on January 1, 2023, then the fishing year begins using the catch limits and management measures from 2022.

Because this final rule changes the catch limits for several species for 2023, leaving 2022 harvest specifications in place could create a conservation risk for species that have decreasing catch limits and for species with increasing catch limits, could unnecessarily delay fishing opportunities until later in the year, potentially reducing the total catch for these species in 2023. Thus, a delay in effectiveness could ultimately cause conservation issues and economic harm to the fishing industry and associated fishing communities or result in harvest levels inconsistent with the best available scientific information.

This final rule is not unexpected or controversial. The groundfish harvest specifications are published biennially and are intended to be effective on January 1 of odd numbered years. This action establishes final specifications (i.e., annual catch limits) and management measures for the Pacific Coast groundfish fisheries for the 2023 fishing year, which begins on January 1, 2023. If this final rule is not effective on January 1, 2023, then the fishing year begins using the catch limits and management measures from 2022.

Because this final rule increases the catch limits for several species for 2023, leaving 2022 harvest specifications in and management measures in place could unnecessarily delay fishing opportunities until later in the year, potentially reducing the total catch for these species in 2019. Thus, a delay in effectiveness could ultimately cause economic harm to the fishing industry and associated fishing communities or result in harvest levels inconsistent with the best available scientific information. For example, due to the improved status of sablefish, the Council recommended changes in catch limits and management measures for a number of commercial sectors of the fishery, including higher trip limits for open access fisheries, increased tier limits for the limited entry fixed gear sablefish primary fishery, and more quota pounds for the Shorebased IFQ fishery. Because this final rule decreases catch limits for some species for 2023, leaving 2022 harvest specifications and management measures in place could allow harvest at the beginning of the year to be too high. Thus, a delay in effectiveness could ultimately cause further restrictions or even closures to be necessary later in the year, preventing one of the objectives of the FMP for year-round fishing opportunities to not be met. For example, due to needs to reduce harvest of copper and quillback rockfish, California recreational seasons are shorter and depth restrictions are more restrictive. Because of the potential conservation risk and potential harm to fishing communities that could be caused by delaying the effectiveness of this final rule, NMFS finds there is good cause to waive the 30-day delay in effectiveness.

Pursuant to Executive Order 13175, this rule was developed after meaningful consultation and collaboration with tribal officials from the area covered by the PCGFMP. Under the Magnuson-Stevens Act at 16 U.S.C. 1852(b)(5), one of the voting members of the Pacific Council must be a representative of an Indian tribe with federally recognized fishing rights from the area of the Council's jurisdiction. In addition, regulations implementing the PCGFMP establish a procedure by which the tribes with treaty fishing rights in the area covered by the PCGFMP request new allocations or regulations specific to the tribes, in writing, before the first of the two meetings at which the Council considers groundfish management measures. The regulations at 50 CFR 660.50 further direct NMFS to develop tribal allocations and regulations in consultation with the affected tribes. The tribal management measures in this rule have been developed following these procedures. The tribal representative on the Council made a motion to adopt the non-whiting tribal management measures, which was passed by the Council. Those management measures, which were developed and proposed by the tribes, are included in this final rule.

The Council prepared an environmental assessment for Amendment 30 to the PCGFMP and the 2023-24 harvest specifications and management measures, and concluded that there will be no significant impact on the human environment as a result of this rule. A copy of the analysis is available from NMFS (see ADDRESSES).

This rule has been determined to be not significant for purposes of Executive Order 12866.

The Chief Counsel for Regulation of the Department of Commerce certified to the Chief Counsel for Advocacy of the Small Business Administration during the proposed rule stage that this action would not have a significant economic impact on a substantial number of small entities. The factual basis for the certification was published in the proposed rule, and is not repeated here. No comments were received regarding this certification. As a result, a final regulatory flexibility analysis was not required and none was prepared.

List of Subjects in 50 CFR Part 660

Fisheries, Fishing, Reporting and recordkeeping requirements.

Dated: December 6, 2022.
Samuel D. Rauch, III,
Deputy Assistant Administrator for Regulatory Programs, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. Amend § 660.11 by:

a. Revising paragraph (1)(vi)(c) under the definition of “Conservation areas(s)”;

b. Revising paragraph (1) under the definition of “Fishing gear” and adding paragraph (12);

c. Revising paragraph (10) under the definition of “Groundfish”;

d. Revising paragraph (1) under the definition of “Open access fishery”.

The revisions read as follows:

§ 660.11 General definitions.

* * * * *

Conservation area(s) * * *

(1) * * *

(vi) * * *

(C) Recreational RCAs. Recreational RCAs are closed areas intended to protect overfished rockfish species. In the EEZ seaward of California, recreational RCAs are also intended to limit catch of non-overfished groundfish species. Recreational RCAs may either have boundaries defined by general depth contours or boundaries defined by specific latitude and longitude coordinates approximating depth contours. Boundaries for the recreational RCAs throughout the year are provided in the text in subpart G of this part under each state (Washington, Oregon and California) and may be modified by NMFS inseason pursuant to § 660.60(c).

* * * * *

Fishing gear includes the following types of gear and equipment:

(1) Bottom contact gear means fishing gear designed or modified to make contact with the bottom. This includes, but is not limited to, beam trawl, bottom trawl, dredge, fixed gear, set net, demersal seine, dinglebar gear, and other gear (including experimental gear) designed or modified to make contact with the bottom. Gear used to harvest bottom dwelling organisms (e.g. by hand, rakes, and knives) are also considered bottom contact gear for purposes of this subpart. Non-bottom contact gear is defined in paragraph (12) of this definition.

* * * * *

(12) Non-bottom contact gear means fishing gear designed or modified to not make contact with the bottom. This includes, but is not limited to, commercial vertical hook-and-line gear not anchored to the bottom (e.g., vertical jig gear or rod-and-reel gear with weights suspended off the bottom) and troll gear.

* * * * *

Groundfish * * *

* * * * *

(10) “Ecosystem component species” means species that are included in the PCGFMP but are not “in the fishery” and therefore not actively managed and do not require harvest specifications. Ecosystem component species are not targeted in any fishery, not generally retained for sale or personal use, and are not determined to be subject to overfishing, approaching an overfished condition, or overfished, nor are they likely to become subject to overfishing or overfished in the absence of conservation and management measures. Ecosystem component species include: All skates listed here in paragraph (2), except longnose skate and big skate; all grenadiers listed here in paragraph (5); soupfin shark; ratfish; finescale codling; and shortbelly rockfish as listed here in paragraph (7)(ii).

* * * * *

Open access fishery * * *

(1) For the purpose of the non-trawl logbook requirements at § 660.13 and the provision to fish inside the nontrawl RCA at § 660.330(b)(3), directed open access fishery means that a fishing vessel is target fishing for groundfish under the requirements of 50 CFR 660 subpart F, is only declared into an open access groundfish gear type or sector as defined in § 660.13(d)(4)(iv)(A), and has not declared into any other gear type or sector.

* * * * *

3. In § 660.25, revise paragraphs (b)(4)(v)(C) and (b)(4)(vi)(D) to read as follows:

§ 660.25 Permits.

* * * * *

(b) * * *

(4) * * *

(v) * * *

(C) Sablefish-endorsed permits. If a permit owner submits an application to register a sablefish-endorsed limited entry permit to a new permit owner or vessel owner during the primary sablefish season described at § 660.231 (generally April 1 through December 31), the initial permit owner must certify on the application form the cumulative quantity, in round weight, of primary season sablefish landed against that permit as of the application signature date for the then current primary season. The new permit owner or vessel owner must sign the application form acknowledging the amount of landings to date given by the initial permit owner. This certified amount should match the total amount of primary season sablefish landings reported on state landing receipts. As required at § 660.12(b), any person landing sablefish must retain on board the vessel from which sablefish is landed, and provide to an authorized officer upon request, copies of any and all reports of sablefish landings from the primary season containing all data, and in the exact manner, required by the applicable state law throughout the primary sablefish season during which a landing occurred and for 15 days thereafter.

* * * * *

(vi) * * *

(D) Sablefish-endorsed permits. If a permit owner submits an application to register a sablefish-endorsed limited entry permit to a new vessel during the primary sablefish season described at § 660.231 (generally April 1 through December 31), the initial permit owner must certify on the application form the cumulative quantity, in round weight, of primary season sablefish landed against that permit as of the application signature date for the then current primary season. The new permit owner or vessel owner associated with the new vessel must sign the application form acknowledging the amount of landings to date given by the initial permit owner. This certified amount should match the total amount of primary season sablefish landings reported on state landing receipts. As required at § 660.12(b), any person landing sablefish must retain on board the vessel from which sablefish is landed, and provide to an authorized officer upon request, copies of any and all reports of sablefish landings from the primary season containing all data, and in the exact manner, required by the applicable state law throughout the primary sablefish season during which a landing occurred and for 15 days thereafter.

* * * * *

4. In § 660.50, revise paragraph (f)(2)(ii) to read as follows:

§ 660.50 Pacific Coast treaty Indian fisheries.

* * * * *

(f) * * *

(2) * * *

(ii) The Tribal allocation is 849 mt in 2023 and 778 mt in 2024 per year. This allocation is, for each year, 10 percent of the Monterey through Vancouver area (North of 36° N lat.) ACL. The Tribal allocation is reduced by 1.7 percent for estimated discard mortality.

* * * * *

5. In § 660.55, revise Table 1 to paragraph (c)(1) to read as follows:

§ 660.55 Allocations.

* * * * *

(c) * * *

(1) * * *

Table 1 to Paragraph (c)(1)—Allocation Amounts and Percentages for Limited Entry Trawl and Non-Trawl Sectors Specified for FMP Groundfish Stocks and Stock Complexes
Stock or complex | All non-treaty LE trawl sectors | All non-treaty non-trawl sectors
Arrowtooth Flounder | 95% | 5%
Chilipepper Rockfish S of 40°10′ N lat | 75% | 25%
Darkblotched Rockfish | 95% | 5%
Dover Sole | 95% | 5%
English Sole | 95% | 5%
Lingcod N of 40°10′ N lat | 45% | 55%
Longspine Thornyhead N of 34°27′ N lat | 95% | 5%
Pacific Cod | 95% | 5%
Pacific Ocean Perch | 95% | 5%
Sablefish S of 36° N lat | 42% | 58%
Shortspine Thornyhead N of 34°27′ N lat | 95% | 5%
Shortspine Thornyhead S of 34°27′ N lat | 50 mt | Remaining Yield
Splitnose Rockfish S of 40°10′ N lat | 95% | 5%
Starry Flounder | 50% | 50%
Yellowtail Rockfish N of 40°10′ N lat | 88% | 12%
Minor Slope Rockfish North of 40°10′ N lat | 81% | 19%
Other Flatfish | 90% | 10%

* * * * *

6. Amend § 660.71 by:

a. Removing paragraphs (e)(193) and (e)(277);

b. Redesignating paragraphs (e)(194) through (276) as (e)(193) through (275), and (e)(278) through (336) as (e)(276) through (334);

c. Revising paragraphs (e)(144) and (e)(192), and newly redesignated paragraphs (e)(263), (e)(274), (e)(280), (e)(287), and (e)(307);

d. Revising paragraphs (h)(13), (i)(1), (i)(9), (i)(14), (i)(20), (i)(34), (j)(27), (j)(30), and (j)(40);

e. Redesignating paragraphs (o)(113) through (218) as (o)(114) through (219) and adding new parargraph (o)(113);

f. Revising paragraphs (o)(95), (o)(97), (o)(112), and newly redesignated paragraphs (o)(181), (o)(193), (o)(215), (o)(216) and (o)(219);

g. Revising paragraphs (q)(8), (q)(14), (q)(19), and (q)(24);

h. Redesignating paragraph (q)(25) as (q)(26), and adding a new paragraph (q)(25);

i. Removing paragraph (r)(20);

j. Redesignating paragraphs (r)(21) through (r)(23) as (r)(20) through (r)(22);

k. Revising paragraphs (r)(8), (r)(15).

The revisions and additions read as follows:

§ 660.71 Latitude/longitude coordinates defining the 10-fm (18-m) through 40-fm (73-m) depth contours.

* * * * *

(e) * * *

* * * * *

(144) 39°16.88′ N lat., 123°49.29′ W long.;

* * * * *

(192) 36°33.20′ N lat., 121°57.50′ W long.;

* * * * *

(263) 34°06.13′ N lat., 119°15.26′ W long.;

* * * * *

(274) 34°04.66′ N lat., 119°04.51′ W long.;

* * * * *

(280) 33°59.78′ N lat., 118°47.26′ W long.;

* * * * *

(287) 33°50.29′ N lat., 118°24.58′ W long.;

* * * * *

(307) 33°35.26′ N lat., 118°02.55′ W long.;

* * * * *

(h) * * *

* * * * *

(13) 33 °56.75′ N lat., 119°49.13′ W long.;

* * * * *

(i) * * *

* * * * *

(1) 33°02.98′ N lat., 118°37.64′ W long.;

* * * * *

(9) 32°54.79′ N lat., 118°33.34′ W long.;

* * * * *

(14) 32°48.05′ N lat., 118°26.81′ W long.;

* * * * *

(20) 32°49.04′ N lat., 118°20.71′ W long.;

* * * * *

(34) 33°02.98′ N lat., 118°37.64′ W long.;

* * * * *

(j) * * *

* * * * *

(27) 33°28.77′ N lat., 118°32.95′ W long.;

* * * * *

(30) 33°27.58′ N lat., 118°29.51′ W long.;

* * * * *

(40) 33°20.21′ N lat., 118°18.50′ W long.;

* * * * *

(o) * * *

* * * * *

(95) 40 °22.41′ N lat., 124°24.19′ W long.;

* * * * *

(97) 40°18.71′ N lat., 124°22.63′ W long.;

* * * * *

(112) 39°22.63′ N lat., 123°51.03′ W long.;

(113) 39°11.86′ N lat., 123°48.83′ W long.;

* * * * *

(181) 34°08.23′ N lat., 119°13.21′ W long.;

* * * * *

(193) 33°49.87′ N lat., 118° 24.15′ W long.;

* * * * *

(215) 32°51.90′ N lat., 117°16.32′ W long.;

(216) 32°52.11′ N lat., 117°19.33′ W long.;

* * * * *

(219) 32°33.00′ N lat., 117°16.39′ W long.;

* * * * *

(q) * * *

* * * * *

(8) 32° 54.78′ N lat., 118°33.44′ W long.;

* * * * *

(14) 32°45.53′ N lat., 118°24.82′ W long.;

* * * * *

(19) 32°49.70′ N lat., 118°21.04′ W long.;

* * * * *

(24) 33°02.98′ N lat., 118°35.40′ W long.;

(25) 33°03.36′ N lat., 118°37.57′ W long.; and

* * * * *

(r) * * *

* * * * *

(8) 33°20.88′ N lat., 118°30.54′ W long.;

* * * * *

(15) 33°22.24′ N lat., 118°19.99′ W long.;

* * * * *

7. Amend § 660.72 by:

a. Revising paragraphs (a)(74) and (75), (a)(106) and (107), (a)(130), (a)(132) and (133),

b. Redesignating paragraphs (a)(134) through (200) as (a)(135) through (201);

c. Adding new paragraph (a)(134);

d. Revising newly redesignated paragraphs (a)(147) and (148), (a)(162), (a)(169), (a)(171), (a)(173), (a)(174)

e. Revising paragraphs (c)(18), (c)(33), (d)(2) through (4), (f)(89), (f)(96), (f)(129), (f)(143) and (144), (f)(146), (f)(155), (f)(159), (f)(169), (f)(175) and (176), (f)(208), (g)(17), (h)(2), (h)(4) through (6), (i)(6);

f. Removing paragraph (j)(140);

g. Redesignating paragraphs (j)(99) through (139) as (j)(100) through (140);

h. Adding new paragraph (j)(99);

i. Revising newly redesignated paragraphs (j)(100), and (j)(109) and paragraphs (j)(154), (j)(157), (j)(166), (j)(186) and (187), (j)(189) and (190), (j)(206), (j)(208) through (210), (j)(215), (j)(220) through (222), (j)(227), (k)(29), (l)(3), (m)(1), (m)(3) and (4), (m)(6), (m)(15), and (m)(18).

The additions and revisions read as follows:

§ 660.72 Latitude/longitude coordinates defining the 50 fm (91 m) through 75 fm (137 m) depth contours.

* * * * *

(a) * * *

* * * * *

(74) 40°23.71′ N lat., 124°28.32′ W long.;

(75) 40°22.53′ N lat., 124°24.67′ W long.;

* * * * *

(106) 37°49.84′ N lat., 123°16.05′ W long.;

(107) 37°35.67′ N lat., 122°55.43′ W long.;

* * * * *

(130) 36°00.00′ N lat., 121°34.95′ W long.;

* * * * *

(132) 35°40.44′ N lat., 121° 22.43′ W long.;

(133) 35°27.11′ N lat., 121°03.55′ W long.;

(134) 35°14.91′ N lat., 120°56.67′ W long.;

* * * * *

(147) 34°07.83′ N lat., 119°13.48′ W long.;

(148) 34°07.71′ N lat., 119°13.29′ W long.;

* * * * *

(162) 33°51.33′ N lat., 118°36.00′ W long.;

* * * * *

(169) 33°48.25′ N lat., 118°26.97′ W long.;

* * * * *

(171) 33°44.11′ N lat., 118°25.23′ W long.;

* * * * *

(173) 33°38.16′ N lat., 118°15.65′ W long.;

(174) 33°37.47′ N lat., 118° 16.62′ W long.;

* * * * *

(c) * * *

* * * * *

(18) 33°58.76′ N lat., 119°32.27′ W long.;

* * * * *

(33) 34°02.47′ N lat., 120°30.00′ W long.;

* * * * *

(d) * * *

* * * * *

(2) 33°02.53′ N lat., 118°34.25′ W long.;

(3) 32°55.51′ N lat., 118°28.92′ W long.;

(4) 32°54.99′ N lat., 118°27.72′ W long.;

* * * * *

(f) * * *

* * * * *

(89) 40°34.26′ N lat., 124°29.52′ W long.;

* * * * *

(96) 40°21.58′ N lat., 124°24.87′ W long.;

* * * * *

(129) 36°51.42′ N lat., 121°57.62′ W long.;

* * * * *

(143) 36°10.30′ N lat., 121°43.00′ W long.;

(144) 36°02.54′ N lat., 121°36.43′ W long.;

* * * * *

(146) 35°58.21′ N lat., 121°32.88′ W long.;

* * * * *

(155) 34°23.05′ N lat., 119°56.25′ W long.;

* * * * *

(159) 34°03.80′ N lat., 119°12.70′ W long.;

* * * * *

(169) 33°55.20′ N lat., 118°33.18′ W long.;

* * * * *

(175) 33°49.93′ N lat., 118°26.36′ W long.;

(176) 33°50.68′ N lat., 118°26.15′ W long.;

* * * * *

(208) 32°43.03′ N lat., 117°20.43′ W long.;

* * * * *

(g) * * *

* * * * *

(17) 33°59.22′ N lat., 119°55.49′ W long.;

* * * * *

(h) * * *

* * * * *

(2) 33°02.56′ N lat., 118°34.19′ W long.;

* * * * *

(4) 32°55.01′ N lat., 118°27.70′ W long.;

(5) 32°49.77′ N lat., 118°20.92′ W long.;

(6) 32°48.38′ N lat., 118°20.02′ W long.;

* * * * *

(i) * * *

* * * * *

(6) 33°25.39′ N lat., 118°22.80′ W long.;

* * * * *

(j) * * *

* * * * *

(99) 40°39.40′ N lat., 124°28.90′ W long.;

(100) 40°36.96′ N lat., 124°28.02′ W long.;

* * * * *

(109) 40°21.65′ N lat., 124°24.89′ W long.;

* * * * *

(154) 37°04.49′ N lat., 122°38.50′ W long.;

* * * * *

(157) 37°01.16′ N lat., 122°24.50′ W long.;

* * * * *

(166) 36°49.80′ N lat., 121°57.93′ W long.;

* * * * *

(186) 36°10.35′ N lat., 121°43.03′ W long.;

(187) 36°02.50′ N lat., 121°36.47′ W long.;

* * * * *

(189) 36°00.00′ N lat., 121°35.32′ W long.;

(190) 35°58.20′ N lat., 121°32.97′ W long.;

* * * * *

(206) 34°03.70′ N lat., 119°12.77′ W long.;

* * * * *

(208) 34°04.44′ N lat., 119°04.90′ W long.;

(209) 34°02.94′ N lat., 119°02.89′ W long.;

(210) 34°01.30′ N lat., 119°00.48′ W long.;

* * * * *

(215) 33°58.99′ N lat., 118°47.33′ W long.;

* * * * *

(220) 33°49.85′ N lat., 118°32.31′ W long.;

(221) 33°49.61′ N lat., 118°28.07′ W long.;

(222) 33°49.77′ N lat., 118°26.34′ W long.;

* * * * *

(227) 33°44.07′ N lat., 118°25.28′ W long.;

* * * * *

(k) * * *

* * * * *

(29) 33°51.69′ N lat., 120°07.98′ W long.;

* * * * *

(l) * * *

* * * * *

(3) 32°55.57′ N lat., 118°28.84′ W long.;

* * * * *

(m) * * *

(1) 33°28.13′ N lat., 118°38.25′ W long.;

* * * * *

(3) 33°28.94′ N lat., 118°30.81′ W long.;

(4) 33°26.73′ N lat., 118°27.35′ W long.;

* * * * *

(6) 33°25.42′ N lat., 118°22.76′ W long.;

* * * * *

(15) 33°24.94′ N lat., 118°32.29′ W long.;

* * * * *

(18) 33°28.13′ N lat., 118°38.25′ W long.;

* * * * *

8. Amend § 660.73 by:

a. Revising paragraphs (a)(159) through (322);

b. Adding new paragraphs (a)(323) through (329);

c. Revising paragraphs (d)(10), (e)(188) and (189), (e)(264), (e)(272), (e)(274) through (276), (e)(284) through (286), (e)(290), (e)(318) through (323), (e)(350) through (363);

d. Adding new paragraphs (e)(364) through (371); and

e. Revising paragraphs (f), (g)(12) and (13), (h) and (l).

The additions and revisions read as follows:

§ 660.73 Latitude/longitude coordinates defining the 100 fm (183 m) through 150 fm (274 m) depth contours.

* * * * *

(a) * * *

(159) 40°39.44′ N lat., 124°29.08′ W long.;

(160) 40°37.08′ N lat., 124°28.29′ W long.;

(161) 40°34.76′ N lat., 124°29.82′ W long.;

(162) 40°36.78′ N lat., 124°37.06′ W long.;

(163) 40°32.44′ N lat., 124°39.58′ W long.;

(164) 40°30.37′ N lat., 124°37.30′ W long.;

(165) 40°28.48′ N lat., 124°36.95′ W long.;

(166) 40°24.82′ N lat., 124°35.12′ W long.;

(167) 40°23.30′ N lat., 124°31.60′ W long.;

(168) 40°23.52′ N lat., 124°28.78′ W long.;

(169) 40°22.43′ N lat., 124°25.00′ W long.;

(170) 40°21.72′ N lat., 124°24.94′ W long.;

(171) 40°21.87′ N lat., 124°27.96′ W long.;

(172) 40°21.40′ N lat., 124°28.74′ W long.;

(173) 40°19.68′ N lat., 124°28.49′ W long.;

(174) 40°17.73′ N lat., 124°25.43′ W long.;

(175) 40°18.37′ N lat., 124°23.35′ W long.;

(176) 40°15.75′ N lat., 124°26.05′ W long.;

(177) 40°16.75′ N lat., 124°33.71′ W long.;

(178) 40°16.29′ N lat., 124°34.36′ W long.;

(179) 40°10.13′ N lat., 124°21.92′ W long.;

(180) 40°07.70′ N lat., 124°18.44′ W long.;

(181) 40°08.84′ N lat., 124°15.86′ W long.;

(182) 40°06.39′ N lat., 124°17.26′ W long.;

(183) 40°03.15′ N lat., 124°14.43′ W long.;

(184) 40°02.19′ N lat., 124°12.85′ W long.;

(185) 40°02.89′ N lat., 124°11.78′ W long.;

(186) 40°02.78′ N lat., 124°10.70′ W long.;

(187) 40°04.57′ N lat., 124°10.08′ W long.;

(188) 40°06.06′ N lat., 124°08.30′ W long.;

(189) 40°04.05′ N lat., 124°08.93′ W long.;

(190) 40°01.17′ N lat., 124°08.80′ W long.;

(191) 40°01.00′ N lat., 124°09.96′ W long.;

(192) 39°58.07′ N lat., 124°11.81′ W long.;

(193) 39°56.39′ N lat., 124°08.69′ W long.;

(194) 39°54.64′ N lat., 124°07.30′ W long.;

(195) 39°53.86′ N lat., 124°07.95′ W long.;

(196) 39°51.95′ N lat., 124°07.63′ W long.;

(197) 39°48.78′ N lat., 124°03.29′ W long.;

(198) 39°47.36′ N lat., 124°03.31′ W long.;

(199) 39°40.08′ N lat., 123°58.37′ W long.;

(200) 39°36.16′ N lat., 123°56.90′ W long.;

(201) 39°30.75′ N lat., 123°55.86′ W long.;

(202) 39°31.62′ N lat., 123°57.33′ W long.;

(203) 39°30.91′ N lat., 123°57.88′ W long.;

(204) 39°01.79′ N lat., 123°56.59′ W long.;

(205) 38°59.42′ N lat., 123°55.67′ W long.;

(206) 38°58.89′ N lat., 123°56.28′ W long.;

(207) 38°57.50′ N lat., 123°56.28′ W long.;

(208) 38°54.72′ N lat., 123°55.68′ W long.;

(209) 38°48.95′ N lat., 123°51.85′ W long.;

(210) 38°36.67′ N lat., 123°40.20′ W long.;

(211) 38°33.82′ N lat., 123°39.23′ W long.;

(212) 38°29.02′ N lat., 123°33.52′ W long.;

(213) 38°18.88′ N lat., 123°25.93′ W long.;

(214) 38°14.12′ N lat., 123°23.26′ W long.;

(215) 38°11.07′ N lat., 123°22.07′ W long.;

(216) 38°03.18′ N lat., 123°20.77′ W long.;

(217) 38°00.00′ N lat., 123°23.08′ W long.;

(218) 37°55.07′ N lat., 123°26.81′ W long.;

(219) 37°50.66′ N lat., 123°23.06′ W long.;

(220) 37°45.18′ N lat., 123°11.88′ W long.;

(221) 37°35.67′ N lat., 123°01.20′ W long.;

(222) 37°26.81′ N lat., 122°55.57′ W long.;

(223) 37°26.78′ N lat., 122°53.91′ W long.;

(224) 37°25.74′ N lat., 122°54.13′ W long.;

(225) 37°25.33′ N lat., 122°53.59′ W long.;

(226) 37°25.29′ N lat., 122°52.57′ W long.;

(227) 37°24.50′ N lat., 122°52.09′ W long.;

(228) 37°23.25′ N lat., 122°53.12′ W long.;

(229) 37°15.58′ N lat., 122°48.36′ W long.;

(230) 37°11.00′ N lat., 122°44.50′ W long.;

(231) 37°07.00′ N lat., 122°41.25′ W long.;

(232) 37°03.18′ N lat., 122°38.15′ W long.;

(233) 37°00.48′ N lat., 122°33.93′ W long.;

(234) 36°58.70′ N lat., 122°27.22′ W long.;

(235) 37°00.85′ N lat., 122°24.70′ W long.;

(236) 36°58.00′ N lat., 122°24.14′ W long.;

(237) 36°58.74′ N lat., 122°21.51′ W long.;

(238) 36°56.97′ N lat., 122°21.32′ W long.;

(239) 36°51.52′ N lat., 122°10.68′ W long.;

(240) 36°48.39′ N lat., 122°07.60′ W long.;

(241) 36°47.43′ N lat., 122°03.22′ W long.;

(242) 36°50.95′ N lat., 121°58.03′ W long.;

(243) 36°49.92′ N lat., 121°58.01′ W long.;

(244) 36°48.86′ N lat., 121°58.80′ W long.;

(245) 36°47.76′ N lat., 121°58.68′ W long.;

(246) 36°48.39′ N lat., 121°51.10′ W long.;

(247) 36°45.74′ N lat., 121°54.17′ W long.;

(248) 36°45.51′ N lat., 121°57.72′ W long.;

(249) 36°38.84′ N lat., 122°01.32′ W long.;

(250) 36°35.62′ N lat., 122°00.98′ W long.;

(251) 36°32.46′ N lat., 121°59.15′ W long.;

(252) 36°32.79′ N lat., 121°57.67′ W long.;

(253) 36°31.98′ N lat., 121°56.55′ W long.;

(254) 36°31.79′ N lat., 121°58.40′ W long.;

(255) 36°30.73′ N lat., 121°59.70′ W long.;

(256) 36°30.31′ N lat., 122°00.22′ W long.;

(257) 36°29.35′ N lat., 122°00.28′ W long.;

(258) 36°27.66′ N lat., 121°59.80′ W long.;

(259) 36°26.22′ N lat., 121°58.35′ W long.;

(260) 36°21.20′ N lat., 122°00.72′ W long.;

(261) 36°20.47′ N lat., 122°02.92′ W long.;

(262) 36°18.46′ N lat., 122°04.51′ W long.;

(263) 36°15.92′ N lat., 122°01.33′ W long.;

(264) 36°13.81′ N lat., 121°57.40′ W long.;

(265) 36°14.43′ N lat., 121°55.43′ W long.;

(266) 36°10.24′ N lat., 121°43.08′ W long.;

(267) 36°07.66′ N lat., 121°40.91′ W long.;

(268) 36°02.49′ N lat., 121°36.51′ W long.;

(269) 36°01.08′ N lat., 121°36.63′ W long.;

(270) 36°00.00′ N lat., 121°35.41′ W long.;

(271) 35°57.84′ N lat., 121°32.81′ W long.;

(272) 35°50.36′ N lat., 121°29.32′ W long.;

(273) 35°39.03′ N lat., 121°22.86′ W long.;

(274) 35°24.27′ N lat., 121°02.74′ W long.;

(275) 35°16.53′ N lat., 121°00.39′ W long.;

(276) 35°04.82′ N lat., 120°53.96′ W long.;

(277) 34°52.51′ N lat., 120°51.62′ W long.;

(278) 34°43.36′ N lat., 120°52.12′ W long.;

(279) 34°38.06′ N lat., 120°49.65′ W long.;

(280) 34°30.85′ N lat., 120°44.76′ W long.;

(281) 34°27.00′ N lat., 120°39.00′ W long.;

(282) 34°21.90′ N lat., 120°25.25′ W long.;

(283) 34°24.86′ N lat., 120°16.81′ W long.;

(284) 34°22.80′ N lat., 119°57.06′ W long.;

(285) 34°18.59′ N lat., 119°44.84′ W long.;

(286) 34°15.04′ N lat., 119°40.34′ W long.;

(287) 34°14.40′ N lat., 119°45.39′ W long.;

(288) 34°12.32′ N lat., 119°42.41′ W long.;

(289) 34°09.71′ N lat., 119°28.85′ W long.;

(290) 34°04.70′ N lat., 119°15.38′ W long.;

(291) 34°03.33′ N lat., 119°12.93′ W long.;

(292) 34°02.72′ N lat., 119°07.01′ W long.;

(293) 34°03.90′ N lat., 119°04.64′ W long.;

(294) 34°02.75′ N lat., 119°02.88′ W long.;

(295) 33°59.44′ N lat., 119°03.43′ W long.;

(296) 33°59.12′ N lat., 118°59.59′ W long.;

(297) 33°59.84′ N lat., 118°57.29′ W long.;

(298) 33°58.83′ N lat., 118°46.69′ W long.;

(299) 33°58.73′ N lat., 118°41.76′ W long.;

(300) 33°55.09′ N lat., 118°34.11′ W long.;

(301) 33°54.09′ N lat., 118°38.42′ W long.;

(302) 33°51.00′ N lat., 118°36.66′ W long.;

(303) 33°49.06′ N lat., 118°31.86′ W long.;

(304) 33°49.69′ N lat., 118°26.49′ W long.;

(305) 33°49.35′ N lat., 118°26.04′ W long.;

(306) 33°47.60′ N lat., 118°31.13′ W long.;

(307) 33°39.82′ N lat., 118°18.31′ W long.;

(308) 33°35.68′ N lat., 118°16.81′ W long.;

(309) 33°32.85′ N lat., 118°09.41′ W long.;

(310) 33°35.14′ N lat., 118°04.95′ W long.;

(311) 33°33.56′ N lat., 118°00.63′ W long.;

(312) 33°34.25′ N lat., 117°53.44′ W long.;

(313) 33°31.65′ N lat., 117°49.21′ W long.;

(314) 33°16.07′ N lat., 117°34.74′ W long.;

(315) 33°07.06′ N lat., 117°22.71′ W long.;

(316) 33°02.81′ N lat., 117°21.17′ W long.;

(317) 33°01.76′ N lat., 117°20.51′ W long.;

(318) 32°59.90′ N lat., 117°19.38′ W long.;

(319) 32°57.29′ N lat., 117°18.94′ W long.;

(320) 32°56.15′ N lat., 117°19.54′ W long.;

(321) 32°55.30′ N lat., 117°19.38′ W long.;

(322) 32°54.27′ N lat., 117°17.17′ W long.;

(323) 32°52.94′ N lat., 117°17.11′ W long.;

(324) 32°52.66′ N lat., 117°19.67′ W long.;

(325) 32°50.95′ N lat., 117°21.17′ W long.;

(326) 32°47.11′ N lat., 117°22.98′ W long.;

(327) 32°45.60′ N lat., 117°22.64′ W long.;

(328) 32°42.79′ N lat., 117°21.16′ W long.; and

(329) 32°34.22′ N lat., 117°21.20′ W long.

* * * * *

(d) * * *

* * * * *

(10) 34°02.97′ N lat., 119°16.89′ W long.;

* * * * *

(e) * * *

* * * * *

(188) 40°22.32′ N lat., 124°25.15′ W long.;

(189) 40°21.85′ N lat., 124°25.09′ W long.;

* * * * *

(264) 36°51.44′ N lat., 122°10.79′ W long.;

* * * * *

(272) 36°45.52′ N lat., 121°57.74′ W long.;

* * * * *

(274) 36°38.84′ N lat., 122°01.44′ W long.;

(275) 36°35.62′ N lat., 122°01.06′ W long.;

(276) 36°32.41′ N lat., 121°59.18′ W long.;

* * * * *

(284) 36°13.66′ N lat., 121°57.17′ W long.;

(285) 36°14.35′ N lat., 121°55.38′ W long.;

(286) 36°10.18′ N lat., 121°43.26′ W long.;

* * * * *

(290) 35°59.96′ N lat., 121°35.39′ W long.;

* * * * *

(318) 34°07.06′ N lat., 120°10.42′ W long.;

(319) 34°08.93′ N lat., 120°18.34′ W long.;

(320) 34°11.04′ N lat., 120°25.20′ W long.;

(321) 34°13.01′ N lat., 120°29.29′ W long.;

(322) 34°09.41′ N lat., 120°37.69′ W long.;

(323) 34°03.20′ N lat., 120°34.52′ W long.;

* * * * *

(350) 33°48.70′ N lat., 118°31.99′ W long.;

(351) 33°48.87′ N lat., 118°29.47′ W long.;

(352) 33°48.37′ N lat., 118°29.40′ W long.;

(353) 33°47.63′ N lat., 118°31.57′ W long.;

(354) 33°39.78′ N lat., 118°18.40′ W long.;

(355) 33°35.50′ N lat., 118°16.85′ W long.;

(356) 33°32.46′ N lat., 118°10.90′ W long.;

(357) 33°32.81′ N lat., 118°07.30′ W long.;

(358) 33°34.38′ N lat., 118°05.94′ W long.;

(359) 33°34.42′ N lat., 118°03.95′ W long.;

(360) 33°33.40′ N lat., 118°01.26′ W long.;

(361) 33°34.11′ N lat., 117°54.07′ W long.;

(362) 33°31.61′ N lat., 117°49.30′ W long.;

(363) 33°16.36′ N lat., 117°35.48′ W long.;

(364) 33°06.81′ N lat., 117°22.93′ W long.;

(365) 32°59.28′ N lat., 117°19.69′ W long.;

(366) 32°55.37′ N lat., 117°19.55′ W long.;

(367) 32°53.12′ N lat., 117°17.49′ W long.;

(368) 32°52.56′ N lat., 117°20.75′ W long.;

(369) 32°46.42′ N lat., 117°23.45′ W long.;

(370) 32°42.71′ N lat., 117°21.45′ W long.; and

(371) 32°34.54′ N lat., 117°23.04′ W long.

* * * * *

(f) The 125 fm (229 m) depth contour around San Clemente Island off the state of California is defined by straight lines connecting all of the following points in the order stated:

(1) 33°04.86′ N lat., 118°37.89′ W long.;

(2) 33°02.67′ N lat., 118°34.07′ W long.;

(3) 32°55.97′ N lat., 118°28.95′ W long.;

(4) 32°55.06′ N lat., 118°27.66′ W long.;

(5) 32°49.79′ N lat., 118°20.84′ W long.;

(6) 32°48.02′ N lat., 118°19.49′ W long.;

(7) 32°47.37′ N lat., 118°21.72′ W long.;

(8) 32°43.58′ N lat., 118°24.54′ W long.;

(9) 32°47.74′ N lat., 118°30.39′ W long.;

(10) 32°49.74′ N lat., 118°32.11′ W long.;

(11) 32°53.36′ N lat., 118°33.44′ W long.;

(12) 32°54.89′ N lat., 118°35.37′ W long.;

(13) 33°00.20′ N lat., 118°38.72′ W long.;

(14) 33°03.15′ N lat., 118°39.80′ W long.; and

(15) 33°04.86′ N lat., 118°37.89′ W long.;

* * * * *

(g) * * *

* * * * *

(12) 33°19.85′ N lat., 118°32.25′ W long.;

(13) 33°20.82′ N lat., 118°32.98′ W long.;

* * * * *

(h) The 125 fm (229 m) depth contour around Lasuen Knoll off the state of California is defined by straight lines connecting all of the following points in the order stated:

(1) 33°24.50′ N lat., 118°01.08′ W long.;

(2) 33°23.35′ N lat., 117°59.83′ W long.;

(3) 33°23.69′ N lat., 117°58.47′ W long.;

(4) 33°24.76′ N lat., 117°59.33′ W long.; and

(5) 33°24.50′ N lat., 118°01.08′ W long.

* * * * *

(l) The 150 fm (274 m) depth contour used around Lasuen Knoll off the state of California is defined by straight lines connecting all of the following points in the order stated:

(1) 33°25.07′ N lat., 117°59.26′ W long.;

(2) 33°23.69′ N lat., 117°58.13′ W long.;

(3) 33°23.18′ N lat., 117°59.87′ W long.;

(4) 33°24.61′ N lat., 118°01.31′ W long.; and

(5) 33°25.07′ N lat., 117°59.26′ W long.

* * * * *

9. In § 660.74, revise paragraphs (d), (j), (p)(3) through (7), and (q)(4) to read as follows:

§ 660.74 Latitude/longitude coordinates defining the 180 fm (329 m) through 250 fm (457 m) depth contours.

* * * * *

(d) The 180 fm (329 m) depth contour used around Lasuen Knoll off the state of California is defined by straight lines connecting all of the following points in the order stated:

(1) 33°25.05′ N lat., 118°01.70′ W long.;

(2) 33°25.41′ N lat., 117°59.36′ W long.;

(3) 33°23.49′ N lat., 117°57.47′ W long.;

(4) 33°23.02′ N lat., 117°59.78′ W long.;

(5) 33°23.85′ N lat., 118°00.88′ W long.; and

(6) 33°25.05′ N lat., 118°01.70′ W long.

* * * * *

(j) The 200 fm (366 m) depth contour used around Lasuen Knoll off the state of California is defined by straight lines connecting all of the following points in the order stated:

(1) 33°25.91′ N lat., 117°59.44′ W long.;

(2) 33°23.37′ N lat., 117°56.97′ W long.;

(3) 33°22.88′ N lat., 117°59.72′ W long.;

(4) 33°23.85′ N lat., 118°01.03′ W long.;

(5) 33°25.20′ N lat., 118°01.89′ W long.; and

(6) 33°25.91′ N lat., 117°59.44′ W long.

* * * * *

(p) * * *

* * * * *

(3) 33°23.83′ N lat., 117°56.19′ W long.;

(4) 33°22.24′ N lat., 117°57.20′ W long.;

(5) 33°22.78′ N lat., 117°59.68′ W long.;

(6) 33°23.79′ N lat., 118°01.32′ W long.;

(7) 33°25.79′ N lat., 118°02.25′ W long.;

* * * * *

(q) * * *

(4) 32°36.07′ N lat., 117°44.29′ W long.;

* * * * *

10. Revise Tables 1a through 1c to part 660, subpart C, to read as follows:

* * * * *

Table 1a. to Part 660, Subpart C—2023, Specifications of OFL, ABC, ACL, ACT and Fishery HG
[(Weights in metric tons). Capitalized stocks are rebuilding.]
Stocks | Area | OFL | ABC | ACL ᵃ | Fishery HG ᵇ
YELLOWEYE ROCKFISH ᶜ | Coastwide | 123 | 103 | 66 | 55.3
Arrowtooth Flounder ᵈ | Coastwide | 26,391 | 18,632 | 18,632 | 16,537
Big Skate ᵉ | Coastwide | 1,541 | 1,320 | 1,320 | 1,260.2
Black Rockfish ᶠ | California (S of 42° N lat.) | 368 | 334 | 334 | 332.1
Black Rockfish ᵍ | Washington (N of 46°16′ N lat.) | 319 | 290 | 290 | 271.8
Bocaccio ʰ | S of 40°10′ N lat | 2,009 | 1,842 | 1,842 | 1,793.9
Cabezon ⁱ | California (S of 42° N lat.) | 197 | 182 | 182 | 180.4
California Scorpionfish ʲ | S of 34°27′ N lat | 290 | 262 | 262 | 258.4
Canary Rockfish ᵏ | Coastwide | 1,413 | 1,284 | 1,284 | 1,215.1
Chilipepper ˡ | S of 40°10′ N lat | 2,401 | 2,183 | 2,183 | 2,085
Cowcod ᵐ | S of 40°10′ N lat | 113 | 80 | 80 | 68.8
Cowcod | (Conception) | 94 | 69 | NA | NA
Cowcod | (Monterey) | 19 | 11 | NA | NA
Darkblotched Rockfish ⁿ | Coastwide | 856 | 785 | 785 | 761.2
Dover Sole ᵒ | Coastwide | 63,834 | 59,685 | 50,000 | 48,402.9
English Sole ᵖ | Coastwide | 11,133 | 9,018 | 9,018 | 8,758.5
Lingcod q | N of 40°10′ N lat | 5,010 | 4,378 | 4,378 | 4,098.4
Lingcod ʳ | S of 40°10′ N lat | 846 | 739 | 726 | 710.5
Longnose Skate ˢ | Coastwide | 1,993 | 1,708 | 1,708 | 1,456.7
Longspine Thornyhead | Coastwide | 4,616 | 3,019 |  |
Longspine Thornyhead ᵗ | N of 34°27′ N lat |  |  | 2,295 | 2,241.3
Longspine Thornyhead ᵘ | S of 34°27′ N lat |  |  | 725 | 722.8
Pacific Cod ᵛ | Coastwide | 3,200 | 1,926 | 1,600 | 1,094
Pacific Ocean Perch ʷ | N of 40°10′ N lat | 4,248 | 3,573 | 3,573 | 3,427.5
Pacific Whiting ˣ | Coastwide | (ˣ) | (ˣ) | (ˣ) | (ˣ)
Petrale Sole ʸ | Coastwide | 3,763 | 3,485 | 3,485 | 3,098.8
Sablefish | Coastwide | 11,577 | 10,825 |  |
Sablefish ᶻ | N of 36° N lat |  |  | 8,486 | See Table 1c
Sablefish ᵃᵃ | S of 36° N lat |  |  | 2,338 | 2,310.6
Shortspine Thornyhead | Coastwide | 3,177 | 2,078 |  |
Shortspine Thornyhead ᵇᵇ | N of 34°27′ N lat |  |  | 1,359 | 1,280.7
Shortspine Thornyhead ᶜᶜ | S of 34°27′ N lat |  |  | 719 | 712.3
Spiny Dogfish ᵈᵈ | Coastwide | 1,911 | 1,456 | 1,456 | 1,104.5
Splitnose ᵉᵉ | S of 40°10′ N lat | 1,803 | 1,592 | 1,592 | 1,573.4
Starry Flounder ᶠᶠ | Coastwide | 652 | 392 | 392 | 343.7
Widow Rockfish ᵍᵍ | Coastwide | 13,633 | 12,624 | 12,624 | 12,385.7
Yellowtail Rockfish ʰʰ | N of 40°10′ N lat | 6,178 | 5,666 | 5,666 | 4,638.5
Stock Complexes
Blue/Deacon/Black Rockfish ⁱⁱ | Oregon | 679 | 597 | 597 | 595.2
Cabezon/Kelp Greenling ʲʲ | Oregon | 202 | 185 | 185 | 184.2
Cabezon/Kelp Greenling ᵏᵏ | Washington | 25 | 20 | 20 | 18.0
Nearshore Rockfish North ˡˡ | N of 40°10′ N lat | 110 | 93 | 93 | 89.7
Nearshore Rockfish South ᵐᵐ | S of 40°10′ N lat | 1,089 | 897 | 887 | 882.5
Other Fish ⁿⁿ | Coastwide | 286 | 223 | 223 | 201.8
Other Flatfish ᵒᵒ | Coastwide | 7,887 | 4,862 | 4,862 | 4,641
Shelf Rockfish North ᵖᵖ | N of 40°10′ N lat | 1,614 | 1,283 | 1,283 | 1,212.1
Shelf Rockfish South qq | S of 40°10′ N lat | 1,835 | 1,469 | 1,469 | 1,336.2
Slope Rockfish North ʳʳ | N of 40°10′ N lat | 1,819 | 1,540 | 1,540 | 1,474.6
Slope Rockfish South ˢˢ | S of 40°10′ N lat | 870 | 701 | 701 | 662.1
a Annual catch limits (ACLs), annual catch targets (ACTs) and harvest guidelines (HGs) are specified as total catch values.
b Fishery HGs means the HG or quota after subtracting Pacific Coast treaty Indian tribes allocations and projected catch, projected research catch, deductions for fishing mortality in non-groundfish fisheries, and deductions for EFPs from the ACL or ACT.
c Yelloweye rockfish. The 66 mt ACL is based on the current rebuilding plan with a target year to rebuild of 2029 and an SPR harvest rate of 65 percent. 10.7 mt is deducted from the ACL to accommodate the Tribal fishery (5 mt), EFP fishing (0.12 mt), research catch (2.92 mt), and incidental open access mortality (2.66 mt) resulting in a fishery HG of 55.3 mt. The non-trawl HG is 50.9 mt. The combined non-nearshore/nearshore HG is 10.7 mt. Recreational HGs are: 13.2 mt (Washington); 11.7 mt (Oregon); and 15.3 mt (California). In addition, the non-trawl ACT is 39.9 mt, and the combined non-nearshore/nearshore ACT is 8.4 mt. Recreational ACTs are: 10.4 mt (Washington), 9.2 mt (Oregon), and 12.0 mt (California).
d Arrowtooth flounder. 2,094.98 mt is deducted from the ACL to accommodate the Tribal fishery (2,041 mt), research catch (12.98 mt) and incidental open access mortality (41 mt), resulting in a fishery HG of 16,537 mt.
e Big skate. 59.8 mt is deducted from the ACL to accommodate the Tribal fishery (15 mt), research catch (5.49 mt), and incidental open access mortality (39.31 mt), resulting in a fishery HG of 1,260.2 mt.
f Black rockfish (California). 2.26 mt is deducted from the ACL to accommodate EFP fishing (1.0 mt), research catch (0.08 mt), and incidental open access mortality (1.18 mt), resulting in a fishery HG of 332.1 mt.
g Black rockfish (Washington). 18.1 mt is deducted from the ACL to accommodate the Tribal fishery (18 mt) and research catch (0.1 mt), resulting in a fishery HG of 271.8 mt.
h Bocaccio south of 40°10′ N lat Bocaccio are managed with stock-specific harvest specifications south of 40°10′ N lat and within the Minor Shelf Rockfish complex north of 40°10′ N lat. 48.12 mt is deducted from the ACL to accommodate EFP fishing (40 mt), research catch (5.6 mt), and incidental open access mortality (2.52 mt), resulting in a fishery HG of 1,793.9 mt. The California recreational fishery south of 40°10′ N lat. has an HG of 755.6 mt.
i Cabezon (California). 1.63 mt is deducted from the ACL to accommodate EFP fishing (1 mt), research catch (0.02 mt), and incidental open access fishery mortality (0.61 mt), resulting in a fishery HG of 180.4 mt.
j California scorpionfish south of 34°27′ N lat. 3.89 mt is deducted from the ACL to accommodate research (0.18 mt) and the incidental open access fishery (3.71 mt), resulting in a fishery HG of 258.4 mt.
k Canary rockfish. 68.91 mt is deducted from the ACL to accommodate the Tribal fishery (50 mt), EFP fishing (6 mt), and research catch (10.08 mt), and incidental open access mortality (2.83 mt), resulting in a fishery HG of 1,215.1 mt. The combined nearshore/non-nearshore HG is 121.2 mt. Recreational HGs are: 41.4 mt (Washington); 62.3 mt (Oregon); and 111.7 mt (California).
l Chilipepper rockfish south of 40°10′ N lat. Chilipepper are managed with stock-specific harvest specifications south of 40°10′ N lat. and within the Minor Shelf Rockfish complex north of 40°10′ N lat. 97.7 mt is deducted from the ACL to accommodate EFP fishing (70 mt), research catch (14.04 mt), incidental open access fishery mortality (13.66 mt), resulting in a fishery HG of 2,085 mt.
m Cowcod south of 40°10′ N lat. Cowcod are managed with stock-specific harvest specifications south of 40°10′ N lat. and within the Minor Shelf Rockfish complex north of 40°10′ N lat. 11.17 mt is deducted from the ACL to accommodate EFP fishing (1 mt), research catch (10 mt), and incidental open access mortality (0.17 mt), resulting in a fishery HG of 68.8 mt.
n Darkblotched rockfish. 23.76 mt is deducted from the ACL to accommodate the Tribal fishery (5 mt), EFP fishing (0.5 mt), research catch (8.46 mt), and incidental open access mortality (9.8 mt) resulting in a fishery HG of 761.2 mt.
o Dover sole. 1,597.11 mt is deducted from the ACL to accommodate the Tribal fishery (1,497 mt), research catch (50.84 mt), and incidental open access mortality (49.27 mt), resulting in a fishery HG of 48,402.9 mt.
p English sole. 259.52 mt is deducted from the ACL to accommodate the Tribal fishery (200 mt), research catch (17 mt), and incidental open access mortality (42.52 mt), resulting in a fishery HG of 8,758.5 mt.
q Lingcod north of 40°10′ N lat. 279.63 mt is deducted from the ACL for the Tribal fishery (250 mt), research catch (17.71 mt), and incidental open access mortality (11.92 mt) resulting in a fishery HG of 4,098.4 mt.
r Lingcod south of 40°10′ N lat. 15.5 mt is deducted from the ACL to accommodate EFP fishing (4 mt), research catch (3.19 mt), and incidental open access mortality (8.31 mt), resulting in a fishery HG of 710.5 mt.
s Longnose skate. 251.3 mt is deducted from the ACL to accommodate the Tribal fishery (220 mt), research catch (12.46 mt), and incidental open access mortality (18.84 mt), resulting in a fishery HG of 1,456.7 mt.
t Longspine thornyhead north of 34°27′ N lat. 53.71 mt is deducted from the ACL to accommodate the Tribal fishery (30 mt), research catch (17.49 mt), and incidental open access mortality (6.22 mt), resulting in a fishery HG of 2,241.3 mt.
u Longspine thornyhead south of 34°27′ N lat. 2.24 mt is deducted from the ACL to accommodate research catch (1.41 mt) and incidental open access mortality (0.83 mt), resulting in a fishery HG of 722.8 mt.
v Pacific cod. 506 mt is deducted from the ACL to accommodate the Tribal fishery (500 mt), research catch (5.47 mt), and incidental open access mortality (0.53 mt), resulting in a fishery HG of 1,094 mt.
w Pacific ocean perch north of 40°10′ N lat. Pacific ocean perch are managed with stock-specific harvest specifications north of 40°10′ N lat. and within the Minor Slope Rockfish complex south of 40°10′ N lat. 145.48 mt is deducted from the ACL to accommodate the Tribal fishery (130 mt), research catch (5.39 mt), and incidental open access mortality (10.09 mt), resulting in a fishery HG of 3,427.5 mt.
x Pacific whiting. Pacific whiting are assessed annually. The final specifications will be determined consistent with the U.S-Canada Pacific Whiting Agreement and will be announced after the Council's April 2023 meeting.
y Petrale sole. 386.24 mt is deducted from the ACL to accommodate the Tribal fishery (350 mt), EFP fishing (1 mt), research catch (24.14 mt), and incidental open access mortality (11.1 mt), resulting in a fishery HG of 3,098.8 mt.
z Sablefish north of 36° N lat. The sablefish coastwide ACL value is not specified in regulations. The coastwide sablefish ACL value is apportioned north and south of 36° N lat., using the rolling 5-year average estimated swept area biomass from the NMFS NWFSC trawl survey, with 78.4 percent apportioned north of 36° N lat. and 21.6 percent apportioned south of 36° N lat. The northern ACL is 8,486 mt and is reduced by 849 mt for the Tribal allocation (10 percent of the ACL north of 36° N lat.). The 849 mt Tribal allocation is reduced by 1.7 percent to account for discard mortality. Detailed sablefish allocations are shown in Table 1c.
aa Sablefish south of 36° N lat. The ACL for the area south of 36° N lat. is 2,338 mt (21.6 percent of the calculated coastwide ACL value). 27.4 mt is deducted from the ACL to accommodate research catch (2.40 mt) and incidental open access mortality (25 mt), resulting in a fishery HG of 2,310.6 mt.
bb Shortspine thornyhead north of 34°27′ N lat. 78.3 mt is deducted from the ACL to accommodate the Tribal fishery (50 mt), research catch (10.48 mt), and incidental open access mortality (17.82 mt), resulting in a fishery HG of 1,280.7 mt for the area north of 34°27′ N lat.
cc Shortspine thornyhead south of 34°27′ N lat. 6.71 mt is deducted from the ACL to accommodate research catch (0.71 mt) and incidental open access mortality (6 mt), resulting in a fishery HG of 712.3 mt for the area south of 34°27′ N lat.
dd Spiny dogfish. 351.48 mt is deducted from the ACL to accommodate the Tribal fishery (275 mt), EFP fishing (1 mt), research catch (41.85 mt), and incidental open access mortality (33.63 mt), resulting in a fishery HG of 1,104.5 mt.
ee Splitnose rockfish south of 40°10′ N lat. 18.42 mt is deducted from the ACL to accommodate EFP fishing (1.5 mt), research catch (11.17 mt), and incidental open access mortality (5.75 mt), resulting in a fishery HG of 1,573.4 mt.
ff Starry flounder. 48.28 mt is deducted from the ACL to accommodate the Tribal fishery (2 mt), research catch (0.57 mt), and incidental open access mortality (45.71 mt), resulting in a fishery HG of 343.7 mt.
gg Widow rockfish. 238.32 mt is deducted from the ACL to accommodate the Tribal fishery (200 mt), EFP fishing (18 mt), research catch (17.27 mt), and incidental open access mortality (3.05 mt), resulting in a fishery HG of 12,385.7 mt.
hh Yellowtail rockfish north of 40°10′ N lat. Yellowtail rockfish are managed with stock-specific harvest specifications north of 40°10′ N lat. and within the Minor Shelf Rockfish complex south of 40°10′ N lat. 1,027.55 mt is deducted from the ACL to accommodate the Tribal fishery (1,000 mt), research catch (20.55 mt), and incidental open access mortality (7 mt), resulting in a fishery HG of 4,638.5 mt.
ii Black rockfish/Blue rockfish/Deacon rockfish (Oregon). 1.82 mt is deducted from the ACL to accommodate research catch (0.08 mt) and incidental open access mortality (1.74 mt), resulting in a fishery HG of 595.2 mt.
jj Cabezon/kelp greenling (Oregon). 0.79 mt is deducted from the ACL to accommodate research catch (0.05 mt), and incidental open access mortality (0.74 mt), resulting in a fishery HG of 184.2 mt.
kk Cabezon/kelp greenling (Washington). 2 mt is deducted from the ACL to accommodate the Tribal fishery, resulting in a fishery HG is 18 mt.
ll Nearshore Rockfish north of 40°10′ N lat. 3.27 mt is deducted from the ACL to accommodate the Tribal fishery (1.5 mt), research catch (0.47 mt), and incidental open access mortality (1.3 mt), resulting in a fishery HG of 89.7 mt. State specific HGs are Washington (17.7 mt), Oregon (32.0 mt), and California (39.6 mt). The ACT for copper rockfish (California) is 6.93 mt. The ACT for quillback rockfish (California) is 0.87 mt.
mm Nearshore Rockfish south of 40°10′ N lat. 4.54 mt is deducted from the ACL to accommodate research catch (2.68 mt) and incidental open access mortality (1.86 mt), resulting in a fishery HG of 882.5 mt. The ACT for copper rockfish is 84.61 mt. The ACT for quillback rockfish is 0.89 mt.
nn Other Fish. The Other Fish complex is comprised of kelp greenling off California and leopard shark coastwide. 21.24 mt is deducted from the ACL to accommodate research catch (6.29 mt) and incidental open access mortality (14.95 mt), resulting in a fishery HG of 201.8 mt.
oo Other Flatfish. The Other Flatfish complex is comprised of flatfish species managed in the PCGFMP that are not managed with stock-specific OFLs/ABCs/ACLs. Most of the species in the Other Flatfish complex are unassessed and include: butter sole, curlfin sole, flathead sole, Pacific sanddab, rock sole, sand sole, and rex sole. 220.79 mt is deducted from the ACL to accommodate the Tribal fishery (60 mt), research catch (23.63 mt), and incidental open access mortality (137.16 mt), resulting in a fishery HG of 4,641.2 mt.
pp Shelf Rockfish north of 40°10′ N lat. 70.94 mt is deducted from the ACL to accommodate the Tribal fishery (30 mt), research catch (15.32 mt), and incidental open access mortality (25.62 mt), resulting in a fishery HG of 1,212.1 mt.
qq Shelf Rockfish south of 40°10′ N lat. 132.77 mt is deducted from the ACL to accommodate EFP fishing (50 mt), research catch (15.1 mt), and incidental open access mortality (67.67 mt) resulting in a fishery HG of 1,336.2 mt.
rr Slope Rockfish north of 40°10′ N lat. 65.39 mt is deducted from the ACL to accommodate the Tribal fishery (36 mt), and research catch (10.51 mt), and incidental open access mortality (18.88 mt), resulting in a fishery HG of 1,474.6 mt.
ss Slope Rockfish south of 40°10′ N lat. 38.94 mt is deducted from the ACL to accommodate EFP fishing (1 mt), research catch (18.21 mt), and incidental open access mortality (19.73 mt), resulting in a fishery HG of 662.1 mt. Blackgill rockfish has a stock-specific HG for the entire groundfish fishery south of 40°10′ N lat. set equal to the species' contribution to the ACL. Harvest of blackgill rockfish in all groundfish fisheries south of 40°10′ N lat. counts against this HG of 172.4 mt.

Table 1b. to Part 660, Subpart C—2023, Allocations by Species or Species Group
[Weight in metric tons]
Stocks/stock complexes | Area | Fishery HG or ACT | Trawl: % | Trawl: Mt | Non-trawl: % | Non-trawl: Mt
YELLOWEYE ROCKFISH ᵃ | Coastwide | 55.3 | 8 | 4.4 | 92 | 50.9
Arrowtooth flounder | Coastwide | 16,537 | 95 | 15,710.2 | 5 | 826.9
Big skate ᵃ | Coastwide | 1,260.2 | 95 | 1,197.2 | 5 | 63
Bocaccio ᵃ | S of 40°10′ N lat | 1,793.9 | 39 | 700.3 | 61 | 1,093.5
Canary rockfish ᵃ | Coastwide | 1,215.1 | 72.3 | 878.5 | 27.7 | 336.6
Chilipepper rockfish | S of 40°10′ N lat | 2,085 | 75 | 1,563.8 | 25 | 521.3
Cowcod ᵃ ᵇ | S of 40°10′ N lat | 68.8 | 36 | 24.8 | 64 | 44.1
Darkblotched rockfish | Coastwide | 761.2 | 95 | 723.2 | 5 | 38.1
Dover sole | Coastwide | 48,402.8 | 95 | 45,982.7 | 5 | 2,420.1
English sole | Coastwide | 8,758.5 | 95 | 8,320.6 | 5 | 437.9
Lingcod | N of 40′10° N lat | 4,098.4 | 45 | 1,844.3 | 55 | 2,254.1
Lingcod ᵃ | S of 40′10° N lat | 710.5 | 40 | 284.2 | 60 | 426.3
Longnose skate ᵃ | Coastwide | 1,456.7 | 90 | 1,311 | 10 | 145.7
Longspine thornyhead | N of 34º27′ N lat | 2,241.3 | 95 | 2,129.2 | 5 | 112.1
Pacific cod | Coastwide | 1,094 | 95 | 1,039.3 | 5 | 54.7
Pacific ocean perch | N of 40°10′ N lat | 3,427.5 | 95 | 3,256.1 | 5 | 171.4
Pacific whiting ᶜ | Coastwide | TBD | 100 | TBD | 0 | 0
Petrale sole ᵃ | Coastwide | 3,098.8 |  | 3,068.8 |  | 30
Sablefish | N of 36° N lat | NA | See Table 1c
Sablefish | S of 36° N lat | 2,310.6 | 42 | 970.5 | 58 | 1,340.1
Shortspine thornyhead | N of 34°27′ N lat | 1,280.7 | 95 | 1,216.7 | 5 | 64
Shortspine thornyhead | S of 34°27′ N lat | 712.3 |  | 50 |  | 662.3
Splitnose rockfish | S of 40°10′ N lat | 1,572.4 | 95 | 1,494.7 | 5 | 78.7
Starry flounder | Coastwide | 343.7 | 50 | 171.9 | 50 | 171.9
Widow rockfish ᵃ | Coastwide | 12,385.7 |  | 11,985.7 |  | 400
Yellowtail rockfish | N of 40°10′ N lat | 4,638.5 | 88 | 4,081.8 | 12 | 556.6
Other Flatfish | Coastwide | 4,641.2 | 90 | 4,177.1 | 10 | 464.1
Shelf Rockfish ᵃ | N of 40°10′ N lat | 1,212.1 | 60.2 | 729.7 | 39.8 | 482.4
Shelf Rockfish ᵃ | S of 40°10′ N lat | 1,336.2 | 12.2 | 163 | 87.8 | 1,173.2
Slope Rockfish | N of 40°10′ N lat | 1,474.6 | 81 | 1,194.4 | 19 | 280.2
Slope Rockfish ᵃ | S of 40°10′ N lat | 662.1 | 63 | 417.1 | 37 | 245
ᵃ Allocations decided through the biennial specification process.
ᵇ The cowcod non-trawl allocation is further split 50:50 between the commercial and recreational sectors. This results in a sector-specific ACT of 22 mt for the commercial sector and 22 mt for the recreational sector.
ᶜ Consistent with regulations at § 660.55(i)(2), the commercial harvest guideline for Pacific whiting is allocated as follows: 34 percent for the C/P Coop Program; 24 percent for the MS Coop Program; and 42 percent for the Shorebased IFQ Program. No more than 5 percent of the Shorebased IFQ Program allocation may be taken and retained south of 42° N lat. before the start of the primary Pacific whiting season north of 42° N lat.

Table 1c. to Part 660, Subpart C—Sablefish North of 36° N Lat. Allocations, 2023
[Weight in metric tons]
Year | ACL | Set-asides: Tribal ᵃ | Set-asides: Research | Recreational estimate | EFP | Commercial HG | Limited entry HG: Percent | Limited entry HG: mt | Open access HG: Percent | Open access HG: mt ᵇ
2023 | 8,486 | 849 | 30.7 | 6 | 1 | 7,600 | 90.6 | 6,885 | 9.4 | 714
Year | LE all | Limited entry trawl ᶜ |  |  |  | Limited entry fixed gear ᵈ
|  | All trawl | At-sea whiting | Shorebased IFQ |  | All FG | Primary |  | DTL
2023 | 6,885 | 3,994 | 100 | 3,893.5 |  | 2,892 | 2,458 |  | 434
ᵃ The tribal allocation is further reduced by 1.7 percent for discard mortality resulting in 834.6 mt in 2023.
ᵇ The open access HG is taken by the incidental OA fishery and the directed OA fishery.
ᶜ The trawl allocation is 58 percent of the limited entry HG.
ᵈ The limited entry fixed gear allocation is 42 percent of the limited entry HG.

11. Revise Tables 2a through 2c to Part 660, Subpart C, to read as follows:

Table 2a. to Part 660, Subpart C—2024, and Beyond, Specifications of OFL, ABC, ACL, ACT and Fishery Harvest Guidelines
[(Weights in metric tons). Capitalized stocks are overfished.]
Stocks | Area | OFL | ABC | ACL ᵃ | Fishery HG ᵇ
YELLOWEYE ROCKFISH ᶜ | Coastwide | 123 | 103 | 66 | 55.3
Arrowtooth Flounder ᵈ | Coastwide | 20,459 | 14,178 | 14,178 | 12,083
Big Skate ᵉ | Coastwide | 1,492 | 1,267 | 1,267 | 1,207.2
Black Rockfish ᶠ | California (S of 42° N lat.) | 364 | 329 | 329 | 326.6
Black Rockfishᵍ | Washington (N of 46°16′ N lat.) | 319 | 289 | 289 | 270.5
Bocaccio ʰ | S of 40°10′ N lat | 2,002 | 1,828 | 1,828 | 1,779.9
Cabezon ⁱ | California (S of 42° N lat.) | 185 | 171 | 171 | 169.4
California Scorpionfish ʲ | S of 34°27′ N lat | 280 | 252 | 252 | 248
Canary Rockfish ᵏ | Coastwide | 1,401 | 1,267 | 1,267 | 1,198.1
Chilipepper ˡ | S of 40°10′ N lat | 2,346 | 2,121 | 2,121 | 2,023.4
Cowcod ᵐ | S of 40°10′ N lat | 112 | 79 | 79 | 67.8
Cowcod | (Conception) | 93 | 67 | NA | NA
Cowcod | (Monterey) | 19 | 12 | NA | NA
Darkblotched Rockfish ⁿ | Coastwide | 822 | 750 | 750 | 726.2
Dover Sole ᵒ | Coastwide | 55,859 | 51,949 | 50,000 | 48,402.9
English Sole ᵖ | Coastwide | 11,158 | 8,960 | 8,960 | 8,700.5
Lingcod q | N of 40°10′ N lat | 4,455 | 3,854 | 3,854 | 3,574.4
Lingcod ʳ | S of 40°10′ N lat | 855 | 740 | 722 | 706.5
Longnose Skate ˢ | Coastwide | 1,955 | 1,660 | 1,660 | 1,408.7
Longspine Thornyhead | Coastwide | 4,433 | 2,846 | n/a | n/a
Longspine Thornyhead ᵗ | N of 34°27′ N lat | n/a | n/a | 2,162 | 2,108.3
Longspine Thornyhead ᵘ | S of 34°27′ N lat | n/a | n/a | 683 | 680.8
Pacific Cod ᵛ | Coastwide | 3,200 | 1,926 | 1,600 | 1,094
Pacific Ocean Perch ʷ | N of 40°10′ N lat | 4,133 | 3,443 | 3,443 | 3,297.5
Pacific Whiting ˣ | Coastwide | (ˣ) | (ˣ) | (ˣ) | (ˣ)
Petrale Soleʸ | Coastwide | 3,563 | 3,285 | 3,285 | 2,898.8
Sablefish | Coastwide | 10,670 | 9,923 | n/a | n/a
Sablefish ᶻ | N of 36° N lat | n/a | n/a | 7,780 | See Table 2c
Sablefish ᵃᵃ | S of 36° N lat | n/a | n/a | 2,143 | 2,115.6
Shortspine Thornyhead | Coastwide | 3,162 | 2,030 |  |
Shortspine Thornyhead ᵇᵇ | N of 34°27′ N lat | n/a | n/a | 1,328 | 1,249.7
Shortspine Thornyhead ᶜᶜ | S of 34°27′ N lat | n/a | n/a | 702 | 695.3
Spiny Dogfish ᵈᵈ | Coastwide | 1,883 | 1,407 | 1,407 | 1,055.5
Splitnose ᵉᵉ | S of 40°10′ N lat | 1,766 | 1,553 | 1,553 | 1,534.3
Starry Flounder ᶠᶠ | Coastwide | 652 | 392 | 392 | 343.7
Widow Rockfish ᵍᵍ | Coastwide | 12,453 | 11,482 | 11,482 | 11,243.7
Yellowtail Rockfish ʰʰ | N of 40°10′ N lat | 6,090 | 5,560 | 5,560 | 4,532.5
Stock Complexes
Blue/Deacon/Black Rockfish ⁱⁱ | Oregon | 671 | 594 | 594 | 592.2
Cabezon/Kelp Greenling ʲʲ | Washington | 22 | 17 | 17 | 15
Cabezon/Kelp Greenling ᵏᵏ | Oregon | 198 | 180 | 180 | 179.2
Nearshore Rockfish North ˡˡ | N of 40°10′ N lat | 109 | 91 | 91 | 87.7
Nearshore Rockfish South ᵐᵐ | S of 40°10′ N lat | 1,097 | 902 | 891 | 886.5
Other Fish ⁿⁿ | Coastwide | 286 | 223 | 223 | 201.8
Other Flatfish ᵒᵒ | Coastwide | 7,946 | 4,874 | 4,874 | 4,653.2
Shelf Rockfish North ᵖᵖ | N of 40°10′ N lat | 1,610 | 1,278 | 1,278 | 1,207
Shelf Rockfish South qq | S of 40°10′ N lat | 1,838 | 1,469 | 1,469 | 1,336.2
Slope Rockfish North ʳʳ | N of 40°10′ N lat | 1,797 | 1,516 | 1,516 | 1,450.6
Slope Rockfish South ˢˢ | S of 40°10′ N lat | 868 | 697 | 697 | 658.1
ᵃ Annual catch limits (ACLs), annual catch targets (ACTs) and harvest guidelines (HGs) are specified as total catch values.
ᵇ Fishery HGs means the HG or quota after subtracting Pacific Coast treaty Indian tribes allocations and projected catch, projected research catch, deductions for fishing mortality in non-groundfish fisheries, and deductions for EFPs from the ACL or ACT.
ᶜ Yelloweye rockfish. The 66 mt ACL is based on the current rebuilding plan with a target year to rebuild of 2029 and an SPR harvest rate of 65 percent. 10.7 mt is deducted from the ACL to accommodate the Tribal fishery (5 mt), EFP fishing (0.12 mt), research catch (2.92 mt), and incidental open access mortality (2.66 mt) resulting in a fishery HG of 55.3 mt. The non-trawl HG is 50.9 mt. The combined non-nearshore/nearshore HG is 10.7 mt. Recreational HGs are: 13.2 mt (Washington); 11.7 mt (Oregon); and 15.3 mt (California). In addition, the non-trawl ACT is 39.9, and the combined non-nearshore/nearshore ACT is 8.4 mt. Recreational ACTs are: 10.4 mt (Washington), 9.2 (Oregon), and 12.0 mt (California).
ᵈ Arrowtooth flounder. 2,094.98 mt is deducted from the ACL to accommodate the Tribal fishery (2,041 mt), research catch (12.98 mt) and incidental open access mortality (41 mt), resulting in a fishery HG of 12,083 mt.
ᵉ Big skate. 59.8 mt is deducted from the ACL to accommodate the Tribal fishery (15 mt), research catch (5.49 mt), and incidental open access mortality (39.31 mt), resulting in a fishery HG of 1,207.2 mt.
ᶠ Black rockfish (California). 2.26 mt is deducted from the ACL to accommodate EFP fishing (1.0 mt), research catch (0.08 mt), and incidental open access mortality (1.18 mt), resulting in a fishery HG of 326.6 mt.
ᵍ Black rockfish (Washington). 18.1 mt is deducted from the ACL to accommodate the Tribal fishery (18 mt) and research catch (0.1 mt), resulting in a fishery HG of 270.5 mt.
ʰ Bocaccio south of 40°10′ N lat. Bocaccio are managed with stock-specific harvest specifications south of 40°10′ N lat. and within the Minor Shelf Rockfish complex north of 40°10′ N lat. 48.12 mt is deducted from the ACL to accommodate EFP fishing (40 mt), research catch (5.6 mt), and incidental open access mortality (2.52 mt), resulting in a fishery HG of 1,779.9 mt. The California recreational fishery south of 40°10′ N lat. has an HG of 749.7 mt.
ⁱ Cabezon (California). 1.63 mt is deducted from the ACL to accommodate EFP fishing (1 mt), research catch (0.02 mt), and incidental open access mortality (0.61 mt), resulting in a fishery HG of 169.4 mt.
ʲ California scorpionfish south of 34°27prime; N lat. 3.89 mt is deducted from the ACL to accommodate research catch (0.18 mt) and incidental open access mortality (3.71 mt), resulting in a fishery HG of 248 mt.
ᵏ Canary rockfish. 68.91 mt is deducted from the ACL to accommodate the Tribal fishery (50 mt), EFP fishing (6 mt), research catch (10.08 mt), and incidental open access mortality (2.83 mt), resulting in a fishery HG of 1,198.1 mt. The combined nearshore/non-nearshore HG is 119.4 mt. Recreational HGs are: 40.8 mt (Washington); 61.4 mt (Oregon); and 110.2 mt (California).
ˡ Chilipepper rockfish south of 40°10′ N lat. Chilipepper are managed with stock-specific harvest specifications south of 40°10′ N lat. and within the Minor Shelf Rockfish complex north of 40°10′ N lat. 97.7 mt is deducted from the ACL to accommodate EFP fishing (70 mt), research catch (14.04 mt), incidental open access mortality (13.66 mt), resulting in a fishery HG of 2,023.4 mt.
ᵐ Cowcod south of 40°10′ N lat. Cowcod are managed with stock-specific harvest specifications south of 40°10′ N lat. and within the Minor Shelf Rockfish complex north of 40°10′ N lat. 11.17 mt is deducted from the ACL to accommodate EFP fishing (1 mt), research catch (10 mt), and incidental open access mortality (0.17 mt), resulting in a fishery HG of 67.8 mt.
ⁿ Darkblotched rockfish. 23.76 mt is deducted from the ACL to accommodate the Tribal fishery (5 mt), EFP fishing (0.5 mt), research catch (8.46 mt), and incidental open access mortality (9.8 mt) resulting in a fishery HG of 726.2 mt.
ᵒ Dover sole. 1,597.11 mt is deducted from the ACL to accommodate the Tribal fishery (1,497 mt), research catch (50.84 mt), and incidental open access mortality (49.27 mt), resulting in a fishery HG of 48,402.9 mt.
ᵖ English sole. 259.52 mt is deducted from the ACL to accommodate the Tribal fishery (200 mt), research catch (17 mt), and incidental open access mortality (42.52 mt), resulting in a fishery HG of 8,700.5 mt.
q Lingcod north of 40°10′ N lat. 279.63 mt is deducted from the ACL for the Tribal fishery (250 mt), research catch (17.71 mt), and incidental open access mortality (11.92 mt) resulting in a fishery HG of 3,574.4 mt.
ʳ Lingcod south of 40°10′ N lat. 15.5 mt is deducted from the ACL to accommodate EFP fishing (4 mt), research catch (3.19 mt), and incidental open access mortality (8.31 mt), resulting in a fishery HG of 706.5 mt.
ˢ Longnose skate. 251.3 mt is deducted from the ACL to accommodate the Tribal fishery (220 mt), and research catch (12.46 mt), and incidental open access mortality (18.84 mt), resulting in a fishery HG of 1,408.7 mt.
ᵗ Longspine thornyhead north of 34°27′ N lat. 53.71 mt is deducted from the ACL to accommodate the Tribal fishery (30 mt), research catch (17.49 mt), and incidental open access mortality (6.22 mt), resulting in a fishery HG of 2,108.3 mt.
ᵘ Longspine thornyhead south of 34°27′ N lat. 2.24 mt is deducted from the ACL to accommodate research catch (1.41 mt) and incidental open access mortality (0.83 mt), resulting in a fishery HG of 680.8 mt.
ᵛ Pacific cod. 506 mt is deducted from the ACL to accommodate the Tribal fishery (500 mt), research catch (5.47 mt), and incidental open access mortality (0.53 mt), resulting in a fishery HG of 1,094 mt.
ʷ Pacific ocean perch north of 40°10′ N lat. Pacific ocean perch are managed with stock-specific harvest specifications north of 40°10′ N lat. and within the Minor Slope Rockfish complex south of 40°10′ N lat. 145.48 mt is deducted from the ACL to accommodate the Tribal fishery (130 mt), EFP fishing, research catch (5.39 mt), and incidental open access mortality (10.09 mt), resulting in a fishery HG of 3,297.5 mt.
ˣ Pacific whiting. Pacific whiting are assessed annually. The final specifications will be determined consistent with the U.S.-Canada Pacific Whiting Agreement and will be announced after the Council's April 2024 meeting.
ʸ Petrale sole. 386.24 mt is deducted from the ACL to accommodate the Tribal fishery (350 mt), EFP fishing (1 mt), research catch (24.14 mt), and incidental open access mortality (11.1 mt), resulting in a fishery HG of 2,898.8 mt.
ᶻ Sablefish north of 36° N lat. The sablefish coastwide ACL value is not specified in regulations. The sablefish coastwide ACL value is apportioned north and south of 36° N lat., using the rolling 5-year average estimated swept area biomass from the NMFS NWFSC trawl survey, with 78.4 percent apportioned north of 36° N lat. and 21.6 percent apportioned south of 36° N lat. The northern ACL is 7,780 mt and is reduced by 778 mt for the Tribal allocation (10 percent of the ACL north of 36° N lat.). The 778 mt Tribal allocation is reduced by 1.7 percent to account for discard mortality. Detailed sablefish allocations are shown in Table 1c.
ᵃᵃ Sablefish south of 36° N lat. The ACL for the area south of 36° N lat. is 2,143 mt (21.6 percent of the calculated coastwide ACL value). 27.4 mt is deducted from the ACL to accommodate research catch (2.40 mt) and the incidental open access fishery (25 mt), resulting in a fishery HG of 2,115.6 mt.
ᵇᵇ Shortspine thornyhead north of 34°27′ N lat. 78.3 mt is deducted from the ACL to accommodate the Tribal fishery (50 mt), research catch (10.48 mt), and incidental open access mortality (17.82 mt), resulting in a fishery HG of 1,249.7 mt for the area north of 34°27′ N lat.
ᶜᶜ Shortspine thornyhead south of 34°27′ N lat. 6.71 mt is deducted from the ACL to accommodate research catch (0.71 mt) and incidental open access mortality (6 mt), resulting in a fishery HG of 695.3 mt for the area south of 34°27′ N lat.
ᵈᵈ Spiny dogfish. 351.48 mt is deducted from the ACL to accommodate the Tribal fishery (275 mt), EFP fishing (1 mt), research catch (41.85 mt), and incidental open access mortality (33.63 mt), resulting in a fishery HG of 1,055.5 mt.
ᵉᵉ Splitnose rockfish south of 40°10′ N lat. Splitnose rockfish in the north is managed in the Slope Rockfish complex and with stock-specific harvest specifications south of 40°10′ N lat. 18.42 mt is deducted from the ACL to accommodate EFP fishing (1.5 mt), research catch (11.17 mt), and incidental open access mortality (5.75 mt), resulting in a fishery HG of 1,534.3 mt.
ᶠᶠ Starry flounder. 48.28 mt is deducted from the ACL to accommodate the Tribal fishery (2 mt), research catch (0.57 mt), and incidental open access mortality (45.71 mt), resulting in a fishery HG of 343.7 mt.
ᵍᵍ Widow rockfish. 238.32 mt is deducted from the ACL to accommodate the Tribal fishery (200 mt), EFP fishing (18 mt), research catch (17.27 mt), and incidental open access mortality (3.05 mt), resulting in a fishery HG of 11,243.7 mt.
ʰʰ Yellowtail rockfish north of 40°10′ N lat. Yellowtail rockfish are managed with stock-specific harvest specifications north of 40°10′ N lat. and within the Minor Shelf Rockfish complex south of 40°10′ N lat. 1,027.55 mt is deducted from the ACL to accommodate the Tribal fishery (1,000 mt), research catch (20.55 mt), and incidental open access mortality (7 mt), resulting in a fishery HG of 4,532.5 mt.
ⁱⁱ Black rockfish/Blue rockfish/Deacon rockfish (Oregon). 1.82 mt is deducted from the ACL to accommodate research catch (0.08 mt), and incidental open access mortality (1.74 mt), resulting in a fishery HG of 592.2 mt.
ʲʲ Cabezon/kelp greenling (Washington). 2 mt is deducted from the ACL to accommodate the Tribal fishery, resulting in a fishery HG is 15 mt.
ᵏᵏ Cabezon/kelp greenling (Oregon). 0.79 mt is deducted from the ACL to accommodate research catch (0.05 mt) and incidental open access mortality (0.74 mt), resulting in a fishery HG of 179.2 mt.
ˡˡ Nearshore Rockfish north of 40°10′ N lat. 3.27 mt is deducted from the ACL to accommodate the Tribal fishery (1.5 mt), research catch (0.47 mt), and incidental open access mortality (1.31 mt), resulting in a fishery HG of 87.7 mt. State-specific HGs are 17.2 mt (Washington), 30.9 mt (Oregon), and 39.9 mt (California). The ACT for copper rockfish (California) is 6.99 mt. The ACT for quillback rockfish (California) is 0.96 mt.
ᵐᵐ Nearshore Rockfish south of 40°10′ N lat. 4.54 mt is deducted from the ACL to accommodate research catch (2.68 mt) and incidental open access mortality (1.86 mt), resulting in a fishery HG of 886.5 mt. The ACT for copper rockfish is 87.73 mt. The ACT for quillback rockfish is 0.97 mt.
ⁿⁿ Other Fish. The Other Fish complex is comprised of kelp greenling off California and leopard shark coastwide. 21.24 mt is deducted from the ACL to accommodate research catch (6.29 mt) and incidental open access mortality (14.95 mt), resulting in a fishery HG of 201.8 mt.
ᵒᵒ Other Flatfish. The Other Flatfish complex is comprised of flatfish species managed in the PCGFMP that are not managed with stock-specific OFLs/ABCs/ACLs. Most of the species in the Other Flatfish complex are unassessed and include: butter sole, curlfin sole, flathead sole, Pacific sanddab, rock sole, sand sole, and rex sole. 220.79 mt is deducted from the ACL to accommodate the Tribal fishery (60 mt), research catch (23.63 mt), and incidental open access mortality (137.16 mt), resulting in a fishery HG of 4,653.2 mt.
ᵖᵖ Shelf Rockfish north of 40°10′ N lat. 70.94 mt is deducted from the ACL to accommodate the Tribal fishery (30 mt), research catch (15.32 mt), and incidental open access mortality (25.62 mt), resulting in a fishery HG of 1,207.1 mt.
qq Shelf Rockfish south of 40°10′ N lat. 132.77 mt is deducted from the ACL to accommodate EFP fishing (50 mt), research catch (15.1 mt), and incidental open access mortality (67.67 mt) resulting in a fishery HG of 1,336.2 mt.
ʳʳ Slope Rockfish north of 40°10′ N lat. 65.39 mt is deducted from the ACL to accommodate the Tribal fishery (36 mt), research catch (10.51 mt), and incidental open access mortality (18.88 mt), resulting in a fishery HG of 1,450.6 mt.
ˢˢ Slope Rockfish south of 40°10′ N lat. 38.94 mt is deducted from the ACL to accommodate EFP fishing (1 mt), research catch (18.21 mt), and incidental open access mortality (19.73 mt), resulting in a fishery HG of 658.1 mt. Blackgill rockfish has a stock-specific HG for the entire groundfish fishery south of 40°10′ N lat. set equal to the species' contribution to the 40-10-adjusted ACL. Harvest of blackgill rockfish in all groundfish fisheries south of 40°10′ N lat. counts against this HG of 169.9 mt.

Table 2b. to Part 660, Subpart C—2024, and Beyond, Allocations by Species or Species Group
[Weight in metric tons]
Stocks/stock complexes | Area | Fishery HG or ACT | Trawl: % | Trawl: Mt | Non-trawl: % | Non-trawl: Mt
YELLOWEYE ROCKFISH ᵃ | Coastwide | 55.3 | 8 | 4.4 | 92 | 50.9
Arrowtooth flounder | Coastwide | 12,083 | 95 | 11,478.9 | 5 | 604.2
Big skate ᵃ | Coastwide | 1,207.2 | 95 | 1,146.8 | 5 | 60.4
Bocaccio ᵃ | S of 40°10′ N lat | 1,779.9 | 39.04 | 694.9 | 60.96 | 1,085
Canary rockfish ᵃ | Coastwide | 1,198.1 | 72.3 | 866.2 | 27.7 | 331.9
Chilipepper rockfish | S of 40°′ N lat | 2,023.4 | 75 | 1,517.6 | 25 | 505.9
Cowcod ᵃ ᵇ | S of 40°10′ N lat | 67.8 | 36 | 24.4 | 64 | 43.4
Darkblotched rockfish | Coastwide | 726.2 | 95 | 689.9 | 5 | 36.3
Dover sole | Coastwide | 48,402.9 | 95 | 45,982.7 | 5 | 2,420.1
English sole | Coastwide | 8,700.5 | 95 | 8,265.5 | 5 | 435
Lingcod | N of 40°10′ N lat | 3,574.4 | 45 | 1,608.5 | 55 | 1,965.9
Lingcod ᵃ | S of 40°10′ N lat | 706.5 | 40 | 282.6 | 60 | 423.9
Longnose skate ᵃ | Coastwide | 1,408.7 | 90 | 1,267.8 | 10 | 140.9
Longspine thornyhead | N of 34°27′ N lat | 2,108.3 | 95 | 2,002.9 | 5 | 105.4
Pacific cod | Coastwide | 1,094 | 95 | 1,039.3 | 5 | 54.7
Pacific ocean perch | N of 40°10′ N lat | 3,297.5 | 95 | 3,132.6 | 5 | 164.9
Pacific whiting ᶜ | Coastwide | TBD | 100 | TBD | 0 | 0
Petrale sole ᵃ | Coastwide | 2,898.8 |  | 2,868.8 |  | 30
Sablefish | N of 36° N lat | NA | See Table 2c
Sablefish | S of 36° N lat | 2,115.6 | 42 | 888.6 | 58 | 1,227
Shortspine thornyhead | N of 34°27′ N lat | 1,249.7 | 95 | 1,187.2 | 5 | 62.5
Shortspine thornyhead | S of 34°27′ N lat | 695.3 |  | 50 |  | 645.3
Splitnose rockfish | S of 40°10′ N lat | 1,534.3 | 95 | 1,457.6 | 5 | 76.7
Starry flounder | Coastwide | 343.7 | 50 | 171.9 | 50 | 171.9
Widow rockfish ᵃ | Coastwide | 11,243.7 |  | 10,843.7 |  | 400
Yellowtail rockfish | N of 40°10′ N lat | 4,532.5 | 88 | 3.988.6 | 12 | 543.9
Other Flatfish | Coastwide | 4,653.2 | 90 | 4,187.9 | 10 | 465.3
Shelf Rockfish ᵃ | N of 40°10′ N lat | 1,207.1 | 60.2 | 726.7 | 39.8 | 480.4
Shelf Rockfish ᵃ | S of 40°10′ N lat | 1,336.2 | 12.2 | 163 | 87.8 | 1,173.2
Slope Rockfish | N of 40°10′ N lat | 1,450.6 | 81 | 1,175 | 19 | 275.6
Slope Rockfish ᵃ | S of 40°10′ N lat | 658.1 | 63 | 414.6 | 37 | 243.5
ᵃ Allocations decided through the biennial specification process.
ᵇ The cowcod non-trawl allocation is further split 50:50 between the commercial and recreational sectors. This results in a sector-specific ACT of 21.7 mt for the commercial sector and 21.7 mt for the recreational sector.
ᶜ Consistent with regulations at § 660.55(i)(2), the commercial harvest guideline for Pacific whiting is allocated as follows: 34 percent for the C/P Coop Program; 24 percent for the MS Coop Program; and 42 percent for the Shorebased IFQ Program. No more than 5 percent of the Shorebased IFQ Program allocation may be taken and retained south of 42° N lat. before the start of the primary Pacific whiting season north of 42° N lat.

Table 2c. to Part 660, Subpart C—Sablefish North of 36° N Lat. Allocations, 2024 and Beyond
[Weights in metric tons]
Year | ACL | Set-asides: Tribal ᵃ | Set-asides: Research | Recreational estimate | EFP | Commercial HG | Limited entry HG: Percent | Limited entry HG: mt | Open access HG: Percent | Open access HG: mt ᵇ
2024 | 7,780 | 778 | 30.7 | 6 | 1 | 6,964 | 90.6 | 6,309 | 9.4 | 665
Year | LE all | Limited entry trawl ᶜ |  |  |  | Limited entry fixed gear ᵈ
|  | All trawl | At-sea whiting | Shorebased IFQ |  | All FG | Primary |  | DTL
2024 | 6,309 | 3,659 | 100 | 3,559 |  | 2,650 | 2,252 |  | 397
ᵃ The tribal allocation is further reduced by 1.7 percent for discard mortality resulting in 764.8 mt in 2024.
ᵇ The open access HG is taken by the incidental OA fishery and the directed OA fishery.
ᶜ The trawl allocation is 58 percent of the limited entry HG.
ᵈ The limited entry fixed gear allocation is 42 percent of the limited entry HG.

* * * * *

12. In § 660.111, revise the definition of “Block area closures or BACs” to read as follows:

§ 660.111 Trawl fishery—definitions.

* * * * *

Block area closures or BACs are a type of groundfish conservation area, defined at § 660.11, bounded on the north and south by commonly used geographic coordinates, defined at § 660.11, and on the east and west by the EEZ, and boundary lines approximating depth contours, defined with latitude and longitude coordinates at §§ 660.71 through 660.74 (10 fm through 250 fm), and § 660.76 (700 fm). BACs may be implemented or modified as routine management measures, per regulations at § 660.60(c). BACs may be implemented in the EEZ seaward of Washington, Oregon and California for vessels using limited entry bottom trawl and/or midwater trawl gear. BACs may be implemented within tribal Usual and Accustomed fishing areas but may only apply to non-tribal vessels. BACs may close areas to specific trawl gear types (e.g., closed for midwater trawl, bottom trawl, or bottom trawl unless using selective flatfish trawl) and/or specific programs within the trawl fishery (e.g., Pacific whiting fishery or MS Coop Program). BACs may vary in their geographic boundaries and duration. Their geographic boundaries, applicable gear type(s) and/or specific trawl fishery program, and effective dates will be announced in the Federal Register. BACs may have a specific termination date as described in the Federal Register, or may be in effect until modified. BACs that are in effect until modified by Council recommendation and subsequent NMFS action are set out in Tables 1 (North) and 1 (South) of this subpart.

* * * * *

13. In § 660.140, revise paragraphs (c)(3)(iii) and (iv), and Table 1 to paragraph (d)(1)(ii)(D) to read as follows:

§ 660.140 Shorebased IFQ Program.

* * * * *

(c) * * *

(3) * * *

(iii) For IFQ species listed in the trawl/non-trawl allocation table, specified at § 660.55(c), subpart C, allocations are determined by applying the trawl column percent to the fishery harvest guideline minus any set-asides for the mothership and C/P sectors for that species.

(iv) The remaining IFQ species (canary rockfish, bocaccio, cowcod, yelloweye rockfish, darkblotched rockfish, POP, widow rockfish, minor shelf rockfish N of 40°10′ N lat., and minor shelf rockfish S of 40°10′ N lat., and minor slope rockfish S of 40°10′ N lat.) are allocated through the biennial specifications and management measures process minus any set-asides for the mothership and C/P sectors for that species.

* * * * *

(d) * * *

(1) * * *

(ii) * * *

(D) * * *

Table 1 to Paragraph (d)(1)(ii)(D)—Shorebased Trawl Allocations for 2023 and 2024
IFQ species | Area | 2023 Shorebased trawl allocation (mt) | 2024 Shorebased trawl allocation (mt)
YELLOWEYE ROCKFISH | Coastwide | 4.42 | 4.42
Arrowtooth flounder | Coastwide | 15,640.17 | 11,408.87
Bocaccio | South of 40°10′ N lat | 700.33 | 694.87
Canary rockfish | Coastwide | 842.50 | 830.22
Chilipepper | South of 40°10′ N lat | 1,563.80 | 1517.60
Cowcod | South of 40°10′ N lat | 24.80 | 24.42
Darkblotched rockfish | Coastwide | 646.78 | 613.53
Dover sole | Coastwide | 45,972.75 | 45,972.75
English sole | Coastwide | 8,320.56 | 8,265.46
Lingcod | North of 40°10′ N lat | 1,829.27 | 1,593.47
Lingcod | South of 40°10′ N lat | 284.20 | 282.60
Longspine thornyhead | North of 34°27′ N lat | 2,129.23 | 2,002.88
Pacific cod | Coastwide | 1,039.30 | 1,039.30
Pacific halibut (IBQ) ᵃ | North of 40°10′ N lat | TBD | TBD
Pacific ocean perch | North of 40°10′ N lat | 2,956.14 | 2,832.64
Pacific whiting ᵃ | Coastwide | TBD | TBD
Petrale sole | Coastwide | 3,063.76 | 2,863.76
Sablefish | North of 36° N lat | 3,893.50 | 3,559.38
Sablefish | South of 36° N lat | 970.00 | 889.00
Shortspine thornyhead | North of 34°27′ N lat | 1,146.67 | 1,117.22
Shortspine thornyhead | South of 34°27′ N lat | 50 | 50
Splitnose rockfish | South of 40°10′ N lat | 1,494.70 | 1,457.60
Starry flounder | Coastwide | 171.86 | 171.86
Widow rockfish | Coastwide | 11,509.68 | 10,367.68
Yellowtail rockfish | North of 40°10′ N lat | 3,761.84 | 3,668.56
Other Flatfish complex | Coastwide | 4,142.09 | 4,152.89
Shelf Rockfish complex | North of 40°10′ N lat | 694.70 | 691.65
Shelf Rockfish complex | South of 40°10′ N lat | 163.02 | 163.02
Slope Rockfish complex | North of 40°10′ N lat | 894.43 | 874.99
Slope Rockfish complex | South of 40°10′ N lat | 417.1 | 414.58
ᵃ Managed through an international process. These allocation will be updated when announced.

* * * * *

14. In § 660.150, revise paragraph (c)(1) to read as follows:

§ 660.150 Mothership (MS) Co-op Program.

* * * * *

(c) * * *—(1) MS Co-op Program species. All species other than Pacific whiting are managed with set-asides for the MS and C/P Co-op Programs, as described in the biennial specifications.

* * * * *

15. In § 660.160, revise paragraph (c)(1)(ii) to read as follows:

§ 660.160 Catcher/processor (C/P) Co-op Program.

* * * * *

(c) * * *

(1) * * *

(ii) Species with set-asides for the MS and C/P Programs, as described in the biennial specifications.

* * * * *

16. In § 660.213, revise paragraph (d)(2) to read as follows:

§ 660.213 Fixed gear fishery—recordkeeping and reporting.

* * * * *

(d) * * *

(2) For participants in the sablefish primary season, the cumulative limit period to which this requirement applies is April 1 through December 31 or, for an individual vessel owner, when the tier limit for the permit(s) registered to the vessel has been reached, whichever is earlier.

* * * * *

17. In § 660.230, revise (c)(2)(i) through (iii) and add paragraph (d)(11)(v) to read as follows:

§ 660.230 Fixed gear fishery—management measures.

* * * * *

(c) * * *

(2) * * *

(i) Coastwide—arrowtooth flounder, big skate, black rockfish, blue/deacon rockfish, canary rockfish, darkblotched rockfish, Dover sole, English sole, lingcod, longnose skate, longspine thornyhead, petrale sole, minor nearshore rockfish, minor shelf rockfish, minor slope rockfish, other fish, other flatfish, Pacific cod, Pacific whiting, rougheye/blackspotted rockfish, sablefish, shortbelly rockfish, shortraker rockfish, shortspine thornyhead, spiny dogfish, starry flounder, widow rockfish, and yelloweye rockfish;

(ii) North of 40°10′ N lat.—cabezon (California), copper rockfish (California), Oregon cabezon/kelp greenling complex, POP, quillback rockfish (California), Washington cabezon/kelp greenling complex, yellowtail rockfish; and

(iii) South of 40°10′ N lat.—blackgill rockfish, bocaccio, bronzespotted rockfish, cabezon, California scorpionfish, chilipepper rockfish, copper rockfish, cowcod, minor shallow nearshore rockfish, minor deeper nearshore rockfish, Pacific sanddabs, quillback rockfish, splitnose rockfish, and vermilion rockfish.

(d) * * *

(11) * * *

(v) It is lawful to fish within the non-trawl RCA seaward of Oregon and California (between 46°16′ N lat. and the U.S./Mexico border) with open access non-bottom contact hook-and-line gear configurations as specified at § 660.330(b)(3)(i) through (ii), subject to applicable crossover provisions at § 660.60(h)(7), and provided that a valid declaration report as required at § 660.13(d) has been filed with NMFS OLE.

* * * * *

18. In § 660.231, revise paragraphs (b)(1), (b)(3)(i), and (b)(3)(iv) to read as follows:

§ 660.231 Limited entry fixed gear sablefish primary fishery.

* * * * *

(b) * * *—(1) Season dates. North of 36° N lat., the sablefish primary season for the limited entry, fixed gear, sablefish-endorsed vessels begins at 12 noon local time on April 1 and closes at 12 noon local time on December 31, or closes for an individual vessel owner when the tier limit for the sablefish endorsed permit(s) registered to the vessel has been reached, whichever is earlier, unless otherwise announced by the Regional Administrator through the routine management measures process described at § 660.60(c).

* * * * *

(3) * * *

(i) A vessel participating in the primary season will be constrained by the sablefish cumulative limit associated with each of the permits registered for use with that vessel. During the primary season, each vessel authorized to fish in that season under paragraph (a) of this section may take, retain, possess, and land sablefish, up to the cumulative limits for each of the permits registered for use with that vessel (i.e., stacked permits). If multiple limited entry permits with sablefish endorsements are registered for use with a single vessel, that vessel may land up to the total of all cumulative limits announced in this paragraph for the tiers for those permits, except as limited by paragraph (b)(3)(ii) of this section. Up to 3 permits may be registered for use with a single vessel during the primary season; thus, a single vessel may not take and retain, possess or land more than 3 primary season sablefish cumulative limits in any one year. A vessel registered for use with multiple limited entry permits is subject to per vessel limits for species other than sablefish, and to per vessel limits when participating in the daily trip limit fishery for sablefish under § 660.232. In 2023, the following annual limits are in effect: Tier 1 at 72,904 lb (33,069 kg), Tier 2 at 33,138 lb (15,031 kg), and Tier 3 at 18,936 lb (8,589 kg). In 2024 and beyond, the following annual limits are in effect: Tier 1 at 66,805 lb (30,302 kg), Tier 2 at 30,366 lb (13,774 kg), and Tier 3 at 17,352 lb (7,871 kg).

* * * * *

(iv) Incidental Pacific halibut retention north of Pt. Chehalis, WA (46°53.30′ N lat.). From April 1 through the closure date set by the International Pacific Halibut Commission for Pacific halibut in all commercial fisheries, vessels authorized to participate in the sablefish primary fishery, licensed by the International Pacific Halibut Commission for commercial fishing in Area 2A (waters off Washington, Oregon, California), and fishing with longline gear north of Pt. Chehalis, WA (46°53.30′ N lat.) may possess and land up to 150 lb (68 kg) dressed weight of Pacific halibut for every 1,000 lb (454 kg) dressed weight of sablefish landed, and up to two additional Pacific halibut in excess of the 150-lbs-per-1,000-pound limit per landing. NMFS publishes the International Pacific Halibut Commission's regulations setting forth annual management measures, including the closure date for Pacific halibut in all commercial fisheries, in the Federal Register by March 15 each year, 50 CFR 300.62. “Dressed” Pacific halibut in this area means halibut landed eviscerated with their heads on. Pacific halibut taken and retained in the sablefish primary fishery north of Pt. Chehalis may only be landed north of Pt. Chehalis and may not be possessed or landed south of Pt. Chehalis.

* * * * *

19. Revise Table 2 (North) to part 660, subpart E, to read as follows:

BILLING CODE 3510-22-P

20. Revise Table 2 (South) to part 660, subpart E, to read as follows:

BILLING CODE 3510-22-C

22. In § 660.330:

a. Add paragraph (b)(3);

b. Revise paragraphs (c)(2)(i) through (iii); and

c. Add paragraph (d)(12)(v).

The additions and revisions read as follows:

§ 660.330 Open access fishery—management measures.

* * * * *

(b) * * *

(3) Non-trawl RCA gear. Inside the non-trawl RCA, only legal non-bottom contact hook-and-line gear configurations may be used for target fishing for groundfish by vessels that participate in the directed open access sector as defined at § 660.11. Legal non-bottom contact hook-and-line gear means stationary vertical jig gear attached to the vessel and not anchored to the bottom, and groundfish troll gear, subject to the specifications below.

(i) Stationary vertical jig gear. The following requirements apply to stationary vertical jig gear:

(A) Must be a minimum of 50 feet between the bottom weight and the lowest fishing hook;

(B) No more than 4 vertical mainlines may be used in the water at one time with no more than 25 hooks on each mainline;

(C) No more than 100 hooks may be in the water at one time, with no more than 25 extra hooks on board the vessel; and

(D) Natural bait or weighted hooks may not be used nor be on board the vessel. Artificial lures and flies are permitted.

(ii) Groundfish troll gear. The following requirements apply to groundfish troll gear:

(A) Must be a minimum of 50 feet between the bottom weight and the troll wire's connection to the horizontal mainline;

(B) No more than 1 mainline may be used in the water at one time;

(C) No more than 500 hooks may be in the water at one time, with no more than 25 extra hooks on board the vessel;

(D) Hooks must be spaced apart by a visible maker (e.g., floats, line wraps, colored line splices), with no more than 25 hooks between each marker and no more than 20 markers on the mainline; and

(E) Natural bait or weighted hooks may not be used nor be on board the vessel. Artificial lures and flies are permitted.

* * * * *

(c) * * *

(2) * * *

(i) Coastwide—arrowtooth flounder, big skate, black rockfish, blue/deacon rockfish, canary rockfish, darkblotched rockfish, Dover sole, English sole, lingcod, longnose skate, longspine thornyhead, minor nearshore rockfish, minor shelf rockfish, minor slope rockfish, other fish, other flatfish, Pacific cod, Pacific sanddabs, Pacific whiting, petrale sole, shortbelly rockfish, shortraker rockfish, rougheye/blackspotted rockfish, sablefish, shortspine thornyhead, spiny dogfish, starry flounder, widow rockfish, and yelloweye rockfish;

(ii) North of 40°10′ N lat.—cabezon (California), copper rockfish (California), Oregon cabezon/kelp greenling complex, POP, quillback rockfish (California), Washington cabezon/kelp greenling complex, yellowtail rockfish; and

(iii) South of 40°10′ N lat.—blackgill rockfish, bocaccio, bronzespotted rockfish, cabezon, chilipepper rockfish, copper rockfish, cowcod, minor shallow nearshore rockfish, minor deeper nearshore rockfish, quillback rockfish, splitnose rockfish, and vermilion rockfish.

(d) * * *

(12) * * *

(v) Target fishing for groundfish off Oregon and California (between 46°16′ N lat. and the U.S./Mexico border) is allowed within the non-trawl RCA for vessels participating in the directed open access sector as defined at § 660.11, subject to the gear restrictions at § 660.330(b)(3)(i-ii), and provided a valid declaration report as required at § 660.13(d) has been filed with NMFS OLE.

* * * * *

23. Revise Table 3 (North) to part 660, subpart F, to read as follows:

24. Revise Table 3 (South) to part 660, subpart F, to read as follows:

* * * * *

25. Amend § 660.360 by:

a. Adding paragraphs (c)(3)(iv)(A) through (D);

b. Revising Table 1 to paragraph (c)(1)(i)(D), paragraphs (c)(1)(ii), (c)(2)(i)(B), (c)(2)(iii)(D), (c)(3) introductory text, (c)(3)(i)(A), (c)(3)(i)(B), (c)(3)(ii), (c)(3)(ii)(A)(1) through (5), (c)(3)(iii)(A)(1) through (5), (c)(3)(iv), and (c)(3)(v)(A).

The additions and revisions read as follows:

§ 660.360 Recreational fishery—management measures.

* * * * *

(c) * * *

(1) * * *

(i) * * *

(D) * * *

Table 1 To Paragraph (C)(1)(i)(d)—Washington Recreational Fishing Season Structure

(ii) Rockfish. In areas of the EEZ seaward of Washington (Washington Marine Areas 1-4) that are open to recreational groundfish fishing, there is a 7 rockfish per day bag limit. Taking and retaining yelloweye rockfish is prohibited in all Marine Areas. Taking and retaining copper rockfish, quillback rockfish, and vermilion rockfish is prohibited in all Marine Areas during May, June and July.

* * * * *

(2) * * *

(i) * * *

(B) Recreational rockfish conservation area (RCA). Fishing for groundfish with recreational gear is prohibited within the recreational RCA, a type of closed area or groundfish conservation area, except with long-leader gear (as defined at § 660.351). It is unlawful to take and retain, possess, or land groundfish taken with recreational gear within the recreational RCA, except with long-leader gear (as defined at § 660.351). A vessel fishing in the recreational RCA may not be in possession of any groundfish unless otherwise stated. [For example, if a vessel fishes in the recreational salmon fishery within the recreational RCA, the vessel cannot be in possession of groundfish while within the recreational RCA. The vessel may, however, on the same trip fish for and retain groundfish shoreward of the recreational RCA on the return trip to port.] Off Oregon, from January 1 through December 31, recreational fishing for groundfish is allowed in all depths. Coordinates approximating boundary lines at the 10-fm (18-m) through 100-fm (183-m) depth contours can be found at § 660.71 through § 660.73.

* * * * *

(iii) * * *

(D) In the Pacific halibut fisheries. Retention of groundfish is governed in part by annual management measures for Pacific halibut fisheries, which are published in the Federal Register. Between the Columbia River and Humbug Mountain, during days open to the “all-depth” sport halibut fisheries, when Pacific halibut are onboard the vessel, no groundfish, except sablefish, Pacific cod, and other species of flatfish (sole, flounder, sanddab), may be taken and retained, possessed or landed, except with long-leader gear (as defined at § 660.351). “All-depth” season days are established in the annual management measures for Pacific halibut fisheries, which are published in the Federal Register and are announced on the NMFS Pacific halibut hotline, 1-800-662-9825.

* * * * *

(3) California. Seaward of California, for groundfish species not specifically mentioned in this paragraph, fishers are subject to the overall 20-fish bag limit for all species of finfish, of which no more than 10 fish of any one species may be taken or possessed by any one person. Petrale sole, Pacific sanddab, and starry flounder are not subject to a bag limit. Recreational spearfishing for all federally-managed groundfish, is exempt from closed areas and seasons, consistent with Title 14 of the California Code of Regulations. This exemption applies only to recreational vessels and divers provided no other fishing gear, except spearfishing gear, is on board the vessel. California state law may provide regulations similar to Federal regulations for kelp greenlings. Retention of cowcod, yelloweye rockfish, and bronzespotted rockfish, is prohibited in the recreational fishery seaward of California all year in all areas. Retention of species or species groups for which the season is closed is prohibited in the recreational fishery seaward of California all year in all areas, unless otherwise authorized in this section. For each person engaged in recreational fishing in the EEZ seaward of California, the following closed areas, seasons, bag limits, and size limits apply:

(i) * * *

(A) Recreational rockfish conservation areas. The recreational RCAs are areas that are closed to recreational fishing for certain groundfish. Fishing for the California rockfish, cabezon, greenling complex (RCG Complex), as defined in paragraph (c)(3)(ii) of this section, and lingcod with recreational gear is prohibited within the recreational RCA. It is unlawful to take and retain, possess, or land the RCG Complex and lingcod taken with recreational gear within the recreational RCA, unless otherwise authorized in this section. A vessel fishing in the recreational RCA may not be in possession of any species prohibited by the restrictions that apply within the recreational RCA. For example, if a vessel fishes in the recreational salmon fishery within the recreational RCA, the vessel cannot be in possession of the RCG Complex and lingcod while in the recreational RCA. The vessel may, however, on the same trip fish for and retain rockfish shoreward of the recreational RCA on the return trip to port. If the season is closed for a species or species group, fishing for that species or species group is prohibited both within the recreational RCA and outside of the recreational RCA, unless otherwise authorized in this section. In times and areas where a recreational RCA is closed shoreward of a recreational RCA line (i.e., when an “off-shore only” fishery is active in that management area) possession or retention of nearshore rockfish (defined as black rockfish, blue rockfish, black and yellow rockfish, brown rockfish, China rockfish, copper rockfish, calico rockfish, gopher rockfish, kelp rockfish, grass rockfish, olive rockfish, quillback rockfish, and treefish), cabezon, and greenlings is prohibited in all depths throughout the area; and possession and retention of all rockfish, cabezon, greenlings, and lingcod is prohibited shoreward of the recreational RCA boundary line, except that vessels may transit through waters shoreward of the recreational RCA line with no fishing gear in the water. Coordinates approximating boundary lines at the 30 fm (55 m) through 100 fm (183 m) depth contours can be found at § 660.71 through § 660.73. The recreational fishing season structure and RCA depth boundaries seaward of California by management area and month are as follows:

(1) Between 42° N lat. (California/Oregon border) and 40°10′ N lat. (Northern Management Area), recreational fishing for the RCG Complex and lingcod is closed from January 1 through May 14, is open at all depths from May 15 through October 15, and is closed October 16 through December 31.

(2) Between 40°10′ N lat. and 38°57.50′ N lat. (Mendocino Management Area), recreational fishing for the RCG Complex and lingcod is closed from January 1 through May 14; prohibited in the EEZ shoreward of the boundary line approximating the 50 fm (91 m) depth contour along the mainland coast and along islands and offshore seamounts from May 15 through July 15 (seaward of 50 fm is open), and is open at all depths from July 16 through December 31.

(3) Between 38°57.50′ N lat. and 37°11′ N lat. (San Francisco Management Area), recreational fishing for the RCG Complex and lingcod is closed from January 1 through May 14; is prohibited in the EEZ shoreward of the boundary line approximating the 50 fm (91 m) depth contour along the mainland coast and along islands and offshore seamounts from May 15 through July 15 (seaward of 50 fm is open), and is open at all depths from July 16 through December 31. Closures around Cordell Bank (see paragraph (c)(3)(i)(C) of this section) also apply in this area.

(4) Between 37°11′ N lat. and 34°27′ N lat. (Central Management Area), recreational fishing for the RCG Complex and lingcod is closed from January 1 through April 30, is open at all depths from May 1 through September 30; and is prohibited in the EEZ shoreward of a boundary line approximating the 50 fm (91 m) depth contour along the mainland coast and along islands and offshore seamounts from October 1 through December 31 (seaward of 50 fm is open).

(5) South of 34°27′ N lat. (Southern Management Area), recreational fishing for the RCG Complex and lingcod is closed from January 1 through March 31, open at all depths from April 1 through September 15; and is prohibited in the EEZ shoreward of a boundary line approximating the 50 fm (91 m) depth contour from September 16 through December 31 along the mainland coast and along islands and offshore seamounts (seaward of 50 fm is open), except in the CCAs where fishing is prohibited seaward of the 40 fm (73 m) depth contour when the fishing season is open (see paragraph (c)(3)(i)(B) of this section).

(B) Cowcod conservation areas. The latitude and longitude coordinates of the Cowcod Conservation Areas (CCAs) boundaries are specified at § 660.70. Recreational fishing for all groundfish is prohibited within the CCAs, except as specified in this paragraph. Fishing for California scorpionfish, petrale sole, starry flounder, and “Other Flatfish” is permitted within the CCAs as specified in paragraphs (c)(3)(iv) and (c)(3)(v) of this section. Recreational fishing for the following species is permitted shoreward of the boundary line approximating the 40 fm (37 m) depth contour when the season, as specified in paragraphs (c)(3)(ii)(A)(5) and (c)(3)(iii)(A)(5) of this section, for those species is open south of 34°27′ N lat.: Minor nearshore rockfish, cabezon, kelp greenling, lingcod, and shelf rockfish. Retention of all groundfish except California scorpionfish, petrale sole, starry flounder, and “Other Flatfish”, is prohibited within the CCA. Coordinates for the boundary line approximating the 40 fm (73 m) depth contour are listed in § 660.71. It is unlawful to take and retain, possess, or land groundfish taken within the CCAs, except for species authorized in this section.

* * * * *

(ii) RCG complex. The California rockfish, cabezon, greenling complex (RCG Complex) includes all rockfish, kelp greenling, rock greenling, and cabezon. This category does not include California scorpionfish, also known as “sculpin”.

(A) * * *

(1) Between 42° N lat. (California/Oregon border) and 40°10′ N lat. (North Management Area), recreational fishing for the RCG complex is open from May 15 through October 15 (i.e., recreational fishing for the RCG complex is closed from January 1 through May 14, and October 16 through December 31).

(2) Between 40°10′ N lat. and 38°57.50′ N lat. (Mendocino Management Area), recreational fishing for the RCG Complex is open from May 15 through December 31 (i.e., recreational fishing for the RCG complex is closed from January 1 through May 14).

(3) Between 38°57.50′ N lat. and 37°11′ N lat. (San Francisco Management Area), recreational fishing for the RCG complex is open from May 15 through December 31 (i.e., recreational fishing for the RCG complex is closed from January 1 through May 14).

(4) Between 37°11′ N lat. and 34°27′ N lat. (Central Management Area), recreational fishing for the RCG complex is open from May 1 through December 31 (i.e., recreational fishing for the RCG complex is closed from January 1 through April 30).

(5) South of 34°27′ N lat. (Southern Management Area), recreational fishing for the RCG Complex is open from April 1 through December 31 (i.e., recreational fishing for the RCG complex is closed from January 1 through the March 31).

* * * * *

(iii) * * *

(A) * * *

(1) Between 42° N lat. (California/Oregon border) and 40°10′ N lat. (Northern Management Area), recreational fishing for lingcod is open from May 15 through October 15 (i.e., recreational fishing for lingcod is closed from January 1 through May 14, and October 16 through December 31).

(2) Between 40°10′ N lat. and 38°57.50′ N lat. (Mendocino Management Area), recreational fishing for lingcod is open from May 15 through December 31 (i.e., recreational fishing for lingcod is closed from January 1 through May 14).

(3) Between 38°57.50′ N lat. and 37°11′ N lat. (San Francisco Management Area), recreational fishing for lingcod is open from May 15 through December 31 (i.e., recreational fishing for lingcod is closed from January 1 through May 14).

(4) Between 37°11′ N lat. and 34°27′ N lat. (Central Management Area), recreational fishing for lingcod is open from May 1 through December 31 (i.e., recreational fishing for lingcod is closed from January 1 through April 30).

(5) South of 34°27′ N lat. (Southern Management Area), recreational fishing for lingcod is open from April 1 through December 31 (i.e., recreational fishing for lingcod is closed from January 1 through March 31)

* * * * *

(iv) “Other Flatfish,” petrale sole, and starry flounder. “Other Flatfish” are defined at § 660.11, and include butter sole, curlfin sole, flathead sole, Pacific sanddab, rex sole, rock sole, and sand sole.

(A) Seasons. Recreational fishing for “Other Flatfish,” petrale sole, and starry flounder is open from January 1 through December 31. When recreational fishing for “Other Flatfish,” petrale sole, and starry flounder is open, it is permitted both outside and within the recreational RCAs described in paragraph (c)(3)(i) of this section and the CCAs described in paragraph (c)(3)(i)(B) of this section.

(B) Bag limits, hook limits. In times and areas where the recreational season for “Other Flatfish,” petrale sole, and starry flounder is open, “Other Flatfish” are subject to the overall 20-fish bag limit for all species of finfish, of which there may be no more than 10 fish of any one species; there is no daily bag limit for petrale sole, starry flounder and Pacific sanddab.

(C) Size limits. There are no size limits for “Other Flatfish,” petrale sole, and starry flounder.

(D) Dressing/Filleting. “Other Flatfish,” petrale sole, and starry flounder may be filleted at sea. Fillets may be of any size, but must bear intact a one-inch (2.6 cm) square patch of skin.

(v) * * *

(A) Seasons. When recreational fishing for California scorpionfish is open, it is permitted both outside of and within the recreational RCAs described in paragraph (c)(3)(i) of this section. Recreational fishing for California scorpionfish is open from January 1 through December 31.

* * * * *

[FR Doc. 2022-26904 Filed 12-14-22; 4:15 pm]

BILLING CODE 3510-22-P